DEPARTMENT OF THE TREASURY

Office of the Comptroller of the Currency

FEDERAL RESERVE SYSTEM

FEDERAL DEPOSIT INSURANCE CORPORATION

Proposed Agency Information Collection Activities; Comment Request

AGENCY: Office of the Comptroller of the Currency (OCC), Treasury; Board of Governors of the Federal Reserve System (Board); and Federal Deposit Insurance Corporation (FDIC).

ACTION: Joint notice and request for comment.

SUMMARY: In accordance with the requirements of the Paperwork Reduction Act (PRA) of 1995, the OCC, the Board, and the FDIC (the “agencies”) may not conduct or sponsor, and the respondent is not required to respond to, an information collection unless it displays a currently valid Office of Management and Budget (OMB) control number. The Federal Financial Institutions Examination Council (FFIEC), of which the agencies are members, has approved the agencies' publication for public comment of a proposal to revise the Consolidated Reports of Condition and Income for a Bank with Domestic Offices Only and Total Assets Less Than $1 Billion (FFIEC 051), the Consolidated Reports of Condition and Income for a Bank with Domestic Offices Only (FFIEC 041), and the Consolidated Reports of Condition and Income for a Bank with Domestic and Foreign Offices (FFIEC 031), which are currently approved collections of information. The Consolidated Reports of Condition and Income are commonly referred to as the Call Report.

The proposed revisions to the FFIEC 051, FFIEC 041, and FFIEC 031 Call Reports would result in an overall reduction in burden. In particular, the proposed revisions primarily relate to the deletion or consolidation of a large number of items, the raising of certain reporting thresholds, and a reduction in reporting frequency for a number of items. The proposed revisions also address the definition of “past due” for regulatory reporting purposes as well as changes in the accounting for equity investments. The proposed revisions would take effect as of the March 31, 2018, report date. At the end of the comment period for this notice, the comments and recommendations received will be reviewed to determine whether the FFIEC and the agencies should modify the proposed revisions to the FFIEC 051, FFIEC 041, and FFIEC 031 prior to giving final approval. As required by the PRA, the agencies will then publish a second Federal Register notice for a 30-day comment period and submit the final FFIEC 051, FFIEC 041, and FFIEC 031 to OMB for review and approval.

DATES: Comments must be submitted on or before August 28, 2017.

ADDRESSES: Interested parties are invited to submit written comments to any or all of the agencies. All comments, which should refer to the OMB control number(s), will be shared among the agencies.

OCC: Because paper mail in the Washington, DC, area and at the OCC is subject to delay, commenters are encouraged to submit comments by email, if possible, to prainfo@occ.treas.gov. Comments may be sent to: Legislative and Regulatory Activities Division, Office of the Comptroller of the Currency, Attention: “1557-0081, FFIEC 031, 041, and 051,” 400 7th Street SW., Suite 3E-218, Washington, DC 20219. In addition, comments may be sent by fax to (571) 465-4326. You may personally inspect and photocopy comments at the OCC, 400 7th Street SW., Washington, DC 20219. For security reasons, the OCC requires that visitors make an appointment to inspect comments. You may do so by calling (202) 649-6700 or, for persons who are deaf or hard of hearing, TTY, (202) 649-5597. Upon arrival, visitors will be required to present valid government-issued photo identification and submit to security screening in order to inspect and photocopy comments.

All comments received, including attachments and other supporting materials, are part of the public record and subject to public disclosure. Do not include any information in your comment or supporting materials that you consider confidential or inappropriate for public disclosure.

Board: You may submit comments, which should refer to “FFIEC 031, FFIEC 041, and FFIEC 051,” by any of the following methods:

• Agency Web site: http://www.federalreserve.gov. Follow the instructions for submitting comments at: http://www.federalreserve.gov/generalinfo/foia/ProposedRegs.cfm.

• Federal eRulemaking Portal: http://www.regulations.gov. Follow the instructions for submitting comments.

• Email: regs.comments@federalreserve.gov. Include the reporting form numbers in the subject line of the message.

• Fax: (202) 452-3819 or (202) 452-3102.

• Mail: Ann E. Misback, Secretary, Board of Governors of the Federal Reserve System, 20th Street and Constitution Avenue NW., Washington, DC 20551.

All public comments are available from the Board's Web site at www.federalreserve.gov/generalinfo/foia/ProposedRegs.cfm as submitted, unless modified for technical reasons. Accordingly, your comments will not be edited to remove any identifying or contact information. Public comments may also be viewed electronically or in paper form in Room 3515, 1801 K Street NW. (between 18th and 19th Streets NW.), Washington, DC 20006 between 9:00 a.m. and 5:00 p.m. on weekdays.

FDIC: You may submit comments, which should refer to “FFIEC 031, FFIEC 041, and FFIEC 051,” by any of the following methods:

• Agency Web site: https://www.fdic.gov/regulations/laws/federal/. Follow the instructions for submitting comments on the FDIC's Web site.

• Federal eRulemaking Portal: https://www.regulations.gov. Follow the instructions for submitting comments.

• Email: comments@FDIC.gov. Include “FFIEC 031, FFIEC 041, and FFIEC 051” in the subject line of the message.

• Mail: Manuel E. Cabeza, Counsel, Attn: Comments, Room MB-3007, Federal Deposit Insurance Corporation, 550 17th Street NW., Washington, DC 20429.

• Hand Delivery: Comments may be hand delivered to the guard station at the rear of the 550 17th Street Building (located on F Street) on business days between 7:00 a.m. and 5:00 p.m.

Public Inspection: All comments received will be posted without change to https://www.fdic.gov/regulations/laws/federal/ including any personal information provided. Paper copies of public comments may be requested from the FDIC Public Information Center by telephone at (877) 275-3342 or (703) 562-2200.

Additionally, commenters may send a copy of their comments to the OMB desk officer for the agencies by mail to the Office of Information and Regulatory Affairs, U.S. Office of Management and Budget, New Executive Office Building, Room 10235, 725 17th Street NW., Washington, DC 20503; by fax to (202) 395-6974; or by email to oira_submission@omb.eop.gov.

FOR FURTHER INFORMATION CONTACT: For further information about the proposed revisions to the Call Report discussed in this notice, please contact any of the agency staff whose names appear below. In addition, copies of the Call Report forms can be obtained at the FFIEC's Web site (https://www.ffiec.gov/ffiec_report_forms.htm).

OCC: Kevin Korzeniewski, Counsel, (202) 649-5490, or for persons who are deaf or hard of hearing, TTY, (202) 649-5597, Legislative and Regulatory Activities Division, Office of the Comptroller of the Currency, 400 7th Street SW., Washington, DC 20219.

Board: Nuha Elmaghrabi, Federal Reserve Board Clearance Officer, (202) 452-3884, Office of the Chief Data Officer, Board of Governors of the Federal Reserve System, 20th and C Streets NW., Washington, DC 20551. Telecommunications Device for the Deaf (TDD) users may call (202) 263-4869.

FDIC: Manuel E. Cabeza, Counsel, (202) 898-3767, Legal Division, Federal Deposit Insurance Corporation, 550 17th Street NW., Washington, DC 20429.

SUPPLEMENTARY INFORMATION: The agencies propose revisions to data items reported on the FFIEC 051, FFIEC 041, and FFIEC 031 Call Reports.

Report Title: Consolidated Reports of Condition and Income (Call Report).

Form Numbers: FFIEC 051 (for eligible small institutions), FFIEC 041 (for banks and savings associations with domestic offices only), and FFIEC 031 (for banks and savings associations with domestic and foreign offices).

Frequency of Response: Quarterly.

Affected Public: Business or other for-profit.

OCC

OMB Control No.: 1557-0081.

Estimated Number of Respondents: 1,335 national banks and federal savings associations.

Estimated Average Burden per Response: 48.52 burden hours per quarter to file.

Estimated Total Annual Burden: 259,097 burden hours to file.

Board

OMB Control No.: 7100-0036.

Estimated Number of Respondents: 830 state member banks.

Estimated Average Burden per Response: 53.11 burden hours per quarter to file.

Estimated Total Annual Burden: 176,325 burden hours to file.

FDIC

OMB Control No.: 3064-0052.

Estimated Number of Respondents: 3,743 insured state nonmember banks and state savings associations.

Estimated Average Burden per Response: 46.66 burden hours per quarter to file.

Estimated Total Annual Burden: 698,594 burden hours to file.

The proposed burden-reducing revisions are the result of an ongoing effort by the agencies to reduce the burden associated with the preparation and filing of Call Reports and, as detailed in Appendices B, C, and D, achieve burden reductions by the removal or consolidation of numerous items, the raising of certain reporting thresholds, and a reduction in reporting frequency for certain items. The proposed revision to the definition of “past due” for regulatory reporting purposes would promote the use of consistent standards in the industry. The proposed revisions to the reporting of equity investments are consistent with changes in the accounting standards applicable to such investments.

The estimated average burden hours, which reflect an overall reduction, collectively reflect the estimates for the FFIEC 051, the FFIEC 041, and the FFIEC 031 reports. When the estimates are calculated by type of report across the agencies, the estimated average burden hours per quarter are 39.47 (FFIEC 051), 58.37 (FFIEC 041), and 123.25 (FFIEC 031). The estimated burden per response for the quarterly filings of the Call Report is an average that varies by agency because of differences in the composition of the institutions under each agency's supervision (e.g., size distribution of institutions, types of activities in which they are engaged, and existence of foreign offices).

Type of Review: Revision of currently approved collections.

General Description of Reports

These information collections are mandatory: 12 U.S.C. 161 (for national banks), 12 U.S.C. 324 (for state member banks), 12 U.S.C. 1817 (for insured state nonmember commercial and savings banks), and 12 U.S.C. 1464 (for federal and state savings associations). At present, except for selected data items and text, these information collections are not given confidential treatment.

Abstract

Institutions submit Call Report data to the agencies each quarter for the agencies' use in monitoring the condition, performance, and risk profile of individual institutions and the industry as a whole. Call Report data serve a regulatory or public policy purpose by assisting the agencies in fulfilling their missions of ensuring the safety and soundness of financial institutions and the financial system and the protection of consumer financial rights, as well as agency-specific missions affecting national and state-chartered institutions, e.g., monetary policy, financial stability, and deposit insurance. Call Reports are the source of the most current statistical data available for identifying areas of focus for on-site and off-site examinations. The agencies use Call Report data in evaluating institutions' corporate applications, including, in particular, interstate merger and acquisition applications for which, as required by law, the agencies must determine whether the resulting institution would control more than 10 percent of the total amount of deposits of insured depository institutions in the United States. Call Report data also are used to calculate institutions' deposit insurance and Financing Corporation assessments and national banks' and federal savings associations' semiannual assessment fees.

Current Actions

I. Introduction

As part of an initiative launched by the FFIEC in December 2014 to identify potential opportunities to reduce burden associated with Call Report requirements for community banks, the FFIEC and the agencies have taken several actions, including: (1) The finalization in mid-2016 of a number of burden-reducing changes and other revisions to the Call Report that were implemented in September 2016 and March 2017; (2) outreach to institutions to obtain a better understanding of significant sources of reporting burden in their Call Report preparation processes; and (3) the creation of a new streamlined FFIEC 051 Call Report for eligible small institutions that took effect as of the March 31, 2017, report date.¹

¹ See 80 FR 56539 (September 18, 2015), 81 FR 45357 (July 13, 2016), 81 FR 54190 (August 15, 2016) (referred to hereafter as the “August 2016 Call Report proposal”), and 82 FR 2444 (January 9, 2017) for further information on the actions taken under this initiative.

As another key part of the FFIEC's community bank burden-reduction initiative, in 2015 the agencies accelerated the start of the next statutorily mandated review of the existing Call Report data items (Full Review),² which otherwise would have commenced in 2017. Users of Call Report data items, who are internal staff at the FFIEC member entities, participated in a series of nine surveys conducted over a 19-month period that began in mid-July 2015 and ended in mid-February 2017. As an integral part of these surveys, users were asked to fully explain the need for each Call Report data item they deem essential, how the data item is used, the frequency with which it is needed, and the population of institutions from which it is needed. Call Report schedules were placed into nine groups and prioritized for review, generally based on the level of burden cited by banking industry representatives. Based on the results of the user surveys, the agencies are in the process of identifying data items to be considered for removal, less frequent collection, and new or revised reporting thresholds to reduce burden.

² This review is mandated by section 604 of the Financial Services Regulatory Relief Act of 2006 (12 U.S.C. 1817(a)(11)).

Based on the results of a portion of the user surveys, the agencies propose various burden-reducing changes in this proposal. A summary of the FFIEC member entities' uses of the data items retained in the Call Report schedules covered in this portion of the user surveys is included in Appendix A. The results of the agencies' initial reviews of the first portion of the user surveys were included in the agencies' August 2016 Call Report proposal for a new streamlined FFIEC 051 Call Report for eligible small institutions and burden-reducing revisions to the existing FFIEC 041 and FFIEC 031 versions of the Call Report, which was finalized in December 2016.³ The agencies are analyzing the results of the final portion of the user surveys to determine any future proposed revisions to the FFIEC 051, FFIEC 041, and FFIEC 031. Burden-reducing reporting changes from this last group of surveys will be proposed in a future Federal Register notice with an anticipated March 31, 2018, implementation date. The schedules reviewed in this last group primarily include schedules that collect data on complex or specialized activities, several of which were removed and replaced by indicator questions and a limited number of indicator items when the new FFIEC 051 was created. Therefore, revisions proposed in this future notice may be likely to more significantly affect schedules and data items in the FFIEC 041 and FFIEC 031.

³ See 81 FR 54190 (August 15, 2016) and 82 FR 2444 (January 9, 2017). A summary of the FFIEC member entities' uses of the data items retained in the Call Report schedules covered in the first portion of the user surveys was included in Appendix A of the latter notice.

In addition, as a framework for the actions it is undertaking, the FFIEC developed a set of guiding principles for use in evaluating potential additions and deletions of Call Report data items and other revisions to the Call Report. In general, data items collected in the Call Report must meet three guiding principles: (1) The data items serve a long-term regulatory or public policy purpose by assisting the FFIEC member entities in fulfilling their missions of ensuring the safety and soundness of financial institutions and the financial system and the protection of consumer financial rights, as well as agency-specific missions affecting national and state-chartered institutions; (2) the data items to be collected maximize practical utility and minimize, to the extent practicable and appropriate, burden on financial institutions; and (3) equivalent data items are not readily available through other means.

II. General Discussion of Proposed Call Report Revisions

As discussed above, the Call Report schedules are being reviewed as part of the Full Review, conducted through a series of nine user surveys. The results of a portion of the surveys were evaluated in the development of this proposal. In addition, the results of certain surveys were re-evaluated and further burden-reducing changes were incorporated into this proposal. In conjunction with these evaluations, the agencies also considered comments received on their August 2016 Call Report proposal, feedback and streamlining suggestions received during their banker outreach activities as part of the community bank Call Report burden-reduction initiative, and comments regarding the Call Report received during the Economic Growth and Regulatory Paperwork Reduction Act review conducted by the FFIEC and the agencies ⁴ (hereafter collectively referred to as “industry comments and feedback”). The proposed revisions to the FFIEC 051, FFIEC 041, and FFIEC 031, which are based on these analyses of the survey responses and consideration of industry comments and feedback, are discussed in Sections III.A, III.B, and III.C, respectively.

⁴ See the Joint Report to Congress, Economic Growth and Regulatory Paperwork Reduction Act, March 2017, https://www.ffiec.gov/pdf/2017_FFIEC_EGRPRA_Joint-Report_to_Congress.pdf.

The schedules reviewed in the portion of the user surveys evaluated in the development of this proposal include:

• Schedule RI-D—Income from Foreign Offices [FFIEC 031 only]

• Schedule RI-E—Explanations

• Schedule RC-B—Securities

• Schedule RC-D—Trading Assets and Liabilities [FFIEC 031 and FFIEC 041 only]

• Schedule RC-K—Quarterly Averages

• Schedule RC-L—Derivatives and Off-Balance-Sheet Items

• Schedule RC-M—Memoranda

The schedules re-evaluated in the development of this proposal include:

• Schedule RI—Income Statement

• Schedule RC—Balance Sheet

• Schedule RC-C, Part I—Loans and Leases

• Schedule RC-N—Past Due and Nonaccrual Loans, Leases, and Other Assets

Table 1 summarizes the changes already finalized as part of the FFIEC's community bank Call Report burden-reduction initiative.

Table 1—Data Items Revised as of March 31, 2017
Finalized call report revisions | 051 | 041 | 031
Items Removed, Net * | 967 | 60 | 68
Change in Item Frequency to Semiannual | 96 |  |
Change in Item Frequency to Annual | 10 |  |
Items with a New or Increased Reporting Threshold |  | 7 | 13
* “Items Removed, Net” reflects the effects of consolidating existing items, adding control totals, and, for the FFIEC 051, relocating individual items from other schedules to Schedule SU, some of which were consolidated in Schedule SU. In addition, included in this number for the FFIEC 051, approximately 300 items were items that institutions with less than $1 billion in total assets were exempt from reporting due to existing reporting thresholds in the FFIEC 041.

Table 2 summarizes the additional burden-reducing proposed revisions to data items included in this notice. The proposed revisions are discussed in Section III. Detail for each affected data item is shown in Appendix B (FFIEC 051), Appendix C (FFIEC 041), and Appendix D (FFIEC 031).

Table 2—Proposed Data Revisions in This Notice
Proposed call report revisions | 051 | 041 | 031
Items Proposed to be Removed, Net * | 54 | 106 | 86
Proposed Change in Item Frequency to Semiannual | 17 | 31 | 31
Proposed Change in Item Frequency to Annual | 26 | 3 | 3
Items with a Proposed New or Increased Reporting Threshold | 26 | 106 | 178
*“Items Proposed to be Removed, Net” reflects the effects of consolidating existing items and relocating individual items to other schedules.

The agencies are also proposing two revisions not related to the burden-reduction initiative. The first proposal would revise a method currently described in the Call Report instructions for determining past-due status for purposes of reporting certain loans and leases as past due in Schedule RC-N. The second proposal would revise portions of several Call Report schedules to incorporate the revised accounting for equity securities under Accounting Standards Update (ASU) No. 2016-01, “Recognition and Measurement of Financial Assets and Financial Liabilities.” Both of these proposals are discussed in Section III.D.

The proposed Call Report revisions would take effect March 31, 2018. Additional information on timing of the proposed revisions is provided in Section IV.

III. Detail of Specific Proposed Call Report Revisions

A. Revisions to the FFIEC 051

Schedule RI

For the FFIEC 051, the agencies propose to consolidate securities brokerage and investment banking income items 5.d.(1) and 5.d.(2) into revised item 5.d.(1), consolidate insurance activities income items 5.d.(3) through 5.d.(5) into revised item 5.d.(2), remove securitization income item 5.g, and remove non-deductible interest expense Memorandum item 1 as the agencies no longer need the current level of detail provided by each of these existing items from smaller institutions eligible to file this version of the Call Report. Securitization income would be included within other noninterest income in item 5.l.

Schedule RI-B

For the FFIEC 051, the agencies propose to remove Schedule RI-B, Part II, Memorandum item 4 on allowances for credit losses on purchased credit-impaired loans, as the agencies no longer need this item from smaller institutions eligible to file this version of the Call Report.

Schedule RI-E

For the FFIEC 051, the agencies propose to remove the preprinted captions for items 1.f and 1.h, as few institutions report having these components of other noninterest income in amounts in excess of the existing reporting threshold for disclosing these components.⁵ The remaining items 1.g and 1.i through 1.l would be renumbered as items 1.f through 1.j.

⁵ After these two preprinted captions have been removed, if an institution has an other noninterest income component currently disclosed in item 1.f or 1.h in an amount in excess of the reporting threshold, it would itemize and describe this component in one of the subitems of item 1 without a preprinted caption.

In addition, after reviewing the agencies' data needs along with industry comments and feedback requesting a higher threshold for disclosing components of other noninterest income and other noninterest expense in Schedule RI-E, the agencies propose to increase the percentage portion of the existing threshold for reporting other noninterest income components in items 1.a through 1.j and other noninterest expense components in items 2.a through 2.p. The proposed threshold for disclosing components of other noninterest income and other noninterest expense would be amounts greater than $100,000 that exceed seven percent of Schedule RI, item 5.l and item 7.d, respectively.⁶ This percentage is currently three percent. The agencies considered alternative percentage thresholds of five percent and ten percent. Upon evaluating the impact of each percentage threshold, the agencies determined that a percentage threshold of seven percent would provide a meaningful reduction in reporting burden without a loss of data that would be necessary for supervisory or other public policy purposes.

⁶ The agencies increased the dollar portion of this reporting threshold from $25,000 to $100,000 effective September 30, 2016.

The agencies further propose to reduce the frequency of collection for items 1.a through 1.j and 2.a through 2.p from quarterly to annually as of December 31. This proposal is based on a comment received on the agencies' August 2016 Call Report proposal recommending a reduction in the reporting frequency of these items for smaller institutions.⁷ The agencies believe the new reporting frequency better balances the agencies' supervisory needs with institutions' reporting burden.

⁷ See 82 FR 2444 (January 9, 2017) for discussion of the comments received on the August 2016 Call Report proposal.

Schedule RC

For the FFIEC 051, the agencies propose to move the reporting of goodwill from existing item 10.a on the balance sheet to Schedule RC-M, item 2.b, and combine existing items 10.a and 10.b on Schedule RC into a single item 10. This would consolidate the reporting of goodwill and other intangible assets on Schedule RC into a single balance sheet item for intangible assets. This proposed revision to Schedule RC was requested by a commenter on the agencies' August 2016 Call Report proposal to facilitate institutions' reporting by making their Call Report processes more efficient and better focused.⁸ While the agencies believe the reporting and disclosure of the amount of an institution's goodwill is important, the agencies are indifferent as to the location of the goodwill information in the Call Report.

⁸ Id.

Schedule RC-B

For the FFIEC 051, the agencies propose to consolidate the reporting of an institution's holdings of U.S. government agency obligations, which are currently reported in items 2.a and 2.b, into a single item 2, and to consolidate the reporting of structured financial product holdings, which are currently reported in items 5.b.(1) through 5.b.(3), into a single item 5.b, as the agencies no longer need the current level of detail for these holdings in the Call Report. Banks would still be required to report amortized cost and fair value information in columns A through D for the proposed items 2 and 5.b. The agencies also propose to reduce the reporting frequency of the data on sales and transfers of held-to-maturity securities reported in Memorandum item 3 from quarterly to semiannual (June 30 and December 31), as the agencies no longer need these data items as frequently. This proposal is consistent with industry comments and feedback recommending a shorter reporting form for two of the four quarters each year. The agencies also propose to remove Memorandum items 6.a through 6.g, which provide detail on holding of structured financial products, as smaller institutions eligible to file this version of the Call Report generally do not hold these securities.

Schedule RC-C, Part I

For the FFIEC 051, the agencies propose to reduce the reporting frequency of Memorandum items 7.a, 7.b, 8.a, and 12 (Columns A through C) from quarterly to semiannual (June 30 and December 31), as the agencies no longer need these loan data in the Call Report as frequently. This proposal is consistent with industry comments and feedback recommending a shorter reporting form for two of the four quarters each year.

Schedule RC-K

For the FFIEC 051, the agencies propose to remove item 7, average trading assets, as the agencies no longer need this quarterly average in the Call Report from institutions with domestic offices only and assets less than $1 billion.

Schedule RC-L

For the FFIEC 051, the agencies propose to remove items 1.b.(1), 1.b.(2), and 1.d, as the agencies no longer need the current level of detail for these types of unused commitments from smaller institutions eligible to file this version of the Call Report.⁹ The agencies also propose to reduce the reporting frequency of merchant credit card sales data in items 11.a and 11.b from quarterly to semiannual (June 30 and December 31), as the agencies no longer need this information in the Call Report as frequently. This proposal is consistent with industry comments and feedback recommending a shorter reporting form for smaller institutions for two of the four quarters each year.

⁹ Any securities underwriting commitments currently reported in item 1.d would be included as part of all other unused commitments in item 1.e.(3).

Schedule RC-M

For the FFIEC 051, the agencies propose to consolidate current items 2.b and 2.c, which provide data on certain identifiable intangible assets, into a single item 2.c,¹⁰ and to consolidate other real estate owned items 3.c and 3.f into a single item 3.c, as the agencies no longer need the current level of detail in the Call Report that is provided in these separate items. As discussed earlier under Schedule RC, the agencies are moving the goodwill amount formerly reported in Schedule RC, item 10.a, to a recaptioned item 2.b on Schedule RC-M.

¹⁰ As explained in the description of the proposed revisions to Schedule RC of the FFIEC 051, existing item 2.b of Schedule RC-M would be replaced by a revised item 2.b for reporting goodwill.

Schedule RC-N

For the FFIEC 051, the agencies propose to reduce the reporting frequency of Memorandum items 7 and 8 on nonaccrual assets and Memorandum items 9.a and 9.b on purchased credit-impaired loans from quarterly to semiannual (June 30 and December 31), as the agencies no longer need these data in the Call Report as frequently. In connection with this proposed change, Memorandum items 7 and 8 would collect data on additions to nonaccrual assets and nonaccrual asset sales, respectively, during the preceding six months rather than the preceding quarter as at present. This proposal is consistent with industry comments and feedback recommending a shorter reporting form for two of the four quarters each year.

B. Revisions to the FFIEC 041

Scope Revision

The agencies propose to revise the scope of the FFIEC 041 to require all institutions with consolidated total assets of $100 billion or more to file the FFIEC 031 instead, regardless of whether an institution has any foreign offices. The agencies are proposing this change because institutions with consolidated total assets of $100 billion or more without foreign offices are considered to have a similar degree of complexity in their activities as institutions with consolidated total assets of $100 billion or more and foreign offices that currently file the FFIEC 031. This scope revision would affect a small number of institutions. Also, modifying the scope of these two versions of the Call Report in this manner would enable the agencies to remove a number of data items from the FFIEC 041 report that they no longer need to collect from institutions with consolidated total assets less than $100 billion.

Schedule RI

For the FFIEC 041, the agencies propose to remove detail on trading revenues in Memorandum items 8.a through 8.e, as the agencies no longer need this level of detail in the Call Report from institutions with total assets less than $100 billion. The agencies would also remove Memorandum items 8.f through 8.h, which currently only apply to institutions with total assets of $100 billion or more. In addition, the agencies propose to reduce the reporting frequency of Memorandum item 12 from quarterly to semiannual (June 30 and December 31), as the agencies no longer need this data in the Call Report as frequently.

Schedule RI-E

For the FFIEC 041, the agencies propose to remove the preprinted captions for items 1.f and 1.h, as few institutions report having these components of other noninterest income in amounts in excess of the existing reporting threshold for disclosing these components.¹¹ The remaining items 1.g and1.i through 1.l would be renumbered as items 1.f through 1.j.

¹¹ If an institution has the component of other noninterest income currently disclosed in item 1.f or 1.h in an amount in excess of the reporting threshold, it would itemize and describe this component in one of the subitems of item 1 without a preprinted caption.

In addition, after reviewing the agencies' data needs along with industry comments and feedback requesting a higher threshold for disclosing components of other noninterest income and other noninterest expense in Schedule RI-E, the agencies propose to increase the percentage portion of the existing threshold for reporting other noninterest income components in items 1.a through 1.j and other noninterest expense components in items 2.a through 2.p. The proposed threshold for disclosing components of other noninterest income and other noninterest expense would be amounts greater than $100,000 that exceed seven percent of Schedule RI, item 5.l and item 7.d, respectively.¹² This percentage is currently three percent. The agencies considered alternative percentage thresholds of five percent and ten percent. Upon evaluating the impact of each percentage threshold, the agencies determined that a percentage threshold of seven percent would provide a meaningful reduction in reporting burden without a loss of data that would be necessary for supervisory or other public policy purposes.

¹² The agencies increased the dollar portion of this reporting threshold from $25,000 to $100,000 effective September 30, 2016.

Schedule RC

For the FFIEC 041, the agencies propose to move the reporting of goodwill from existing item 10.a on the balance sheet to Schedule RC-M, item 2.b, and combine existing items 10.a and 10.b on Schedule RC into a single item 10. This would consolidate the reporting of goodwill and other intangible assets on Schedule RC into a single balance sheet item for intangible assets. This proposed revision to Schedule RC was requested by a commenter on the agencies' August 2016 Call Report proposal to facilitate institutions' reporting by making their Call Report processes more efficient and better focused.¹³ While the agencies believe the reporting and disclosure of the amount of an institution's goodwill detail is important, the agencies are indifferent as to the location of the information in the Call Report.

¹³ See 82 FR 2444 (January 9, 2017) for discussion of the comments received on the August 2016 Call Report proposal.

Schedule RC-B

For the FFIEC 041, the agencies propose to consolidate the reporting of an institution's holdings of U.S. government agency obligations, which are currently reported in items 2.a and 2.b, into a single item 2, and to consolidate the reporting of structured financial product holdings, which are currently reported in items 5.b.(1) through 5.b.(3), into a single item 5.b, as the agencies no longer need the current level of detail for these holdings in the Call Report. Institutions would still be required to report amortized cost and fair value information in columns A through D for the proposed items 2 and 5.b. The agencies also propose to reduce the reporting frequency of the data on sales and transfers of held-to-maturity securities reported in Memorandum item 3 from quarterly to semiannual (June 30 and December 31), as the agencies no longer need these data items in the Call Report as frequently. This proposal is consistent with industry comments and feedback recommending a shorter reporting form for two of the four quarters each year.¹⁴ The agencies also propose to add a reporting threshold of $10 billion or more in total assets before institutions must complete Memorandum items 5.a though 6.g, columns A through D, as the agencies no longer need this information in the Call Report from institutions under this proposed threshold.

¹⁴ See 82 FR 2444 (January 9, 2017).

Schedule RC-C, Part I

For the FFIEC 041, the agencies propose to reduce the reporting frequency of Memorandum items 7.a, 7.b, 8.a, 8.b, 8.c, and 12.a through 12.d (columns A through C) from quarterly to semiannual (June 30 and December 31), as the agencies no longer need these loan data in the Call Report as frequently. This proposal is consistent with industry comments and feedback recommending a shorter reporting form for two of the four quarters each year.

Schedule RC-D

For the FFIEC 041, the agencies propose to change the reporting threshold for the overall schedule so that the schedule would be applicable to institutions with total trading assets of $10 million or more in any of the four preceding calendar quarters from the current threshold of $2 million in average trading assets over this same period. In addition, all institutions meeting the FDIC's definition of a large institution or a highly complex institution for deposit insurance assessment purposes would be required to complete Schedule RC-D. The agencies are proposing this reporting threshold change because they no longer need to collect this detailed data in the Call Report from institutions with a lesser amount of trading assets that are not large or highly complex institutions.

The agencies also propose to consolidate:

• Structured financial products in current items 5.a.(1) through 5.a.(3) into a single new item 5.a;

• Loan detail in current items 6.a.(1), 6.a.(2), 6.a.(4), and 6.a.(5) into a single new item 6.a.(2);

• Certain residential loan detail in current items 6.a.(3)(a) through 6.a.(3)(b)(2) into a single new item 6.a.(1);

• Consumer loan information in items 6.c.(1) through 6.c.(4) into a single item 6.c;

• Loan detail in current Memorandum items 1.a.(1), 1.a.(2), 1.a.(4), and 1.a.(5) into a single new Memorandum item 1.a.(2);

• Certain residential loan detail in current Memorandum items 1.a.(3)(a) through 1.a.(3)(b)(2) into a single new Memorandum item 1.a.(1); and

• Consumer loan information in Memoranda items 1.c.(1) through 1.c.(4) into a single new Memorandum item 1.c.

The agencies no longer need to collect the existing level of detail in the Call Report from those institutions that would be required to complete Schedule RC-D under its proposed revised reporting threshold. The agencies also propose to remove Memorandum items 2.a though 10, as the agencies no longer need to collect the current level of detail in the Call Report from institutions with less than $100 billion in total assets.

Schedule RC-K

For the FFIEC 041, the agencies propose to revise the reporting threshold for item 7 on average trading assets. This item would only need to be completed by institutions with $10 million or more in total trading assets in any of the four preceding calendar quarters and by all institutions meeting the FDIC's definition of a “large institution” or a “highly complex institution” for deposit insurance assessment purposes. This proposed revised reporting threshold is consistent with the proposed threshold for completing Schedule RC-D discussed above. The agencies no longer need this quarterly average in the Call Report from institutions with less than $10 million in trading assets that are not large or highly complex institutions.

Schedule RC-L

For the FFIEC 041, the agencies propose to consolidate items 1.a.(1) and 1.a.(2) into a single item 1.a.(1), as the agencies no longer need the current level of detail in the Call Report for these types of unused commitments. The agencies also propose to remove item 8 on spot foreign exchange contracts, as the agencies no longer need this information in the Call Report from all institutions with assets less than $100 billion. By removing item 8, spot foreign exchange contracts would be reported as part of an institution's all other off-balance sheet liabilities in item 9 of Schedule RC-L if the amount of such contracts exceeds 10 percent of the institution's total equity capital. Spot foreign exchange contracts would be disclosed as a component of the institution's all other off-balance sheet liabilities if the amount exceeds 25 percent of total equity capital.

The agencies also propose to remove columns B, C, and D, for items 16.a through 16.b.(8), and instead include these data on over-the-counter derivatives within column E for derivatives with all other counterparties. The agencies no longer need the separate detail in the Call Report provided by the disaggregated data on over-the-counter derivatives for monoline financial guarantors, hedge funds, and sovereign governments for institutions filing the FFIEC 041. The agencies also propose removing items 16.b.(4) though 16.b.(6) for the remaining columns A and E, and instead including the fair value of the three types of securities collateral currently reported in items 16.b.(4) through 16.b.(6) within the collateral amount reported in the respective columns of item 16.b.(7). The agencies no longer need the separate breakout of these types of collateral in the Call Report for institutions filing the FFIEC 041.

The agencies also propose to reduce the reporting frequency of items 1.b.(1), 1.b.(2), 11.a, and 11.b from quarterly to semiannual (June 30 and December 31), as the agencies no longer need these data in the Call Report as frequently. This proposal is consistent with industry comments and feedback recommending a shorter reporting form for two of the four quarters each year.

Schedule RC-M

For the FFIEC 041, the agencies propose to consolidate items 2.b and 2.c, which provide data on certain identifiable intangible assets, into a single item 2.c,¹⁵ and to consolidate other real estate owned items 3.c and 3.f into a single item 3.c, as the agencies no longer need the current level of detail in the Call Report that is provided in these separate items. As discussed earlier under Schedule RC, the agencies are moving the goodwill amount formerly reported in Schedule RC, item 10.a, to a recaptioned item 2.b on Schedule RC-M. The agencies also propose to reduce the reporting frequency for items 9 (Web site transactional capability), 14.a (captive insurance subsidiary assets), and 14.b (captive reinsurance subsidiary assets) from quarterly to annual (December 31), as the agencies no longer need these data in the Call Report as frequently.

¹⁵ As explained in the description of the proposed revisions to Schedule RC of the FFIEC 041, existing item 2.b of Schedule RC-M would be replaced by a revised item 2.b for reporting goodwill.

Schedule RC-N

For the FFIEC 041, the agencies propose to reduce the reporting frequency of Memorandum items 7 and 8 on nonaccrual assets and Memorandum items 9.a and 9.b (columns A through C) on purchased credit-impaired loans from quarterly to semiannual (June 30 and December 31), as the agencies no longer need these data in the Call Report as frequently. In connection with this proposed change, Memorandum items 7 and 8 would collect data on additions to nonaccrual assets and nonaccrual asset sales, respectively, during the preceding six months rather than the preceding quarter as at present. This proposal is consistent with industry comments and feedback recommending a shorter reporting form for two of the four quarters each year.

C. Revisions to the FFIEC 031

Scope Revision

The agencies propose to revise the scope of the FFIEC 031 to require all institutions with consolidated total assets of $100 billion or more to file this form, regardless of whether an institution has any foreign offices. The agencies are proposing this change because institutions with consolidated total assets of $100 billion or more without foreign offices are considered to have a similar degree of complexity in their activities as institutions of this size with foreign offices that currently file the FFIEC 031.

Schedule RI

For the FFIEC 031, the agencies propose to change the reporting threshold for reporting information on trading revenues in Memorandum items 8.a through 8.e. Currently, these items are completed by institutions that reported average trading assets of $2 million or more for any quarter of the preceding calendar year. The agencies propose to modify the reporting threshold for Memorandum items 8.a through 8.e to instruct that these items be completed by institutions that reported total trading assets of $10 million or more for any quarter of the preceding calendar year, as the agencies no longer need this level of detail in the Call Report from institutions with lower levels of trading assets. In addition, the agencies propose to reduce the reporting frequency of Memorandum item 12 from quarterly to semiannual (June 30 and December 31), as the agencies no longer need this data in the Call Report as frequently.

Schedule RI-D

For the FFIEC 031, the agencies propose to change the reporting threshold for completing this schedule. Currently, this schedule is required to be completed by an institution when its foreign office revenues, assets, or net income exceed 10 percent of consolidated total revenues, total assets, or net income. The agencies propose to add an additional threshold that an institution must have foreign office assets of $10 billion or more and also meet one of the three 10 percent tests before the schedule is required, as the agencies no longer need foreign office income data in the Call Report from institutions with a lesser amount of foreign office assets.

Schedule RI-E

For the FFIEC 031, the agencies propose to remove the preprinted captions for items 1.f and 1.h, as few institutions report having these components of other noninterest income in amounts in excess of the existing reporting threshold for disclosing these components.¹⁶ The remaining items 1.g and 1.i through 1.l would be renumbered as items 1.f through 1.j.

¹⁶ If an institution has the component of other noninterest income currently disclosed in item 1.f or 1.h in an amount in excess of the reporting threshold, it would itemize and describe this component in one of the subitems of item 1 without a preprinted caption.

In addition, after reviewing the agencies' data needs along with industry comments and feedback requesting a higher threshold for disclosing components of other noninterest income and other noninterest expense in Schedule RI-E, the agencies propose to increase the percentage portion of the existing threshold for reporting other noninterest income components in items 1.a through 1.j and other noninterest expense components in items 2.a through 2.p. The proposed threshold for disclosing components of other noninterest income and other noninterest expense would be amounts greater than $100,000 that exceed seven percent of Schedule RI, item 5.l, and item 7.d, respectively.¹⁷ This percentage is currently three percent. The agencies considered alternative percentage thresholds of five percent and ten percent. Upon evaluating the impact of each percentage threshold, the agencies determined that a percentage threshold of seven percent would provide a meaningful reduction in reporting burden without a loss of data that would be necessary for supervisory or other public policy purposes.

¹⁷ The agencies increased the dollar portion of this reporting threshold from $25,000 to $100,000 effective September 30, 2016.

Schedule RC

For the FFIEC 031, the agencies propose to move the reporting of goodwill from existing item 10.a on the balance sheet to Schedule RC-M, item 2.b (as discussed further below), and combine existing items 10.a and 10.b on Schedule RC into a single item 10. This would consolidate the reporting of goodwill and other intangible assets on Schedule RC into a single balance sheet item for intangible assets. This proposed revision to Schedule RC was requested by a commenter on the agencies' August 2016 Call Report proposal to facilitate institutions' reporting by making their Call Report processes more efficient and better focused.¹⁸ While the agencies believe the reporting and disclosure of an institution's goodwill detail is important, the agencies are indifferent as to the location of the information in the Call Report.

¹⁸ See 82 FR 2444 (January 9, 2017) for discussion of the comments received on the August 2016 Call Report proposal.

Schedule RC-B

For the FFIEC 031, the agencies propose to consolidate the reporting of an institution's holdings of U.S. government agency obligations, which are currently reported in items 2.a and 2.b, into a single item 2, and to consolidate the reporting of structured financial product holdings, which are currently reported in items 5.b.(1) through 5.b.(3), into a single item 5.b, as the agencies no longer need the current level of detail in the Call Report for these holdings. Institutions would still be required to report amortized cost and fair value information in columns A through D for the proposed items 2 and 5.b. The agencies also propose to reduce the reporting frequency of the data on sales and transfers of held-to-maturity securities reported in Memorandum item 3 from quarterly to semiannual (June 30 and December 31), as the agencies no longer need these data items as frequently in the Call Report. The agencies also propose to add a reporting threshold of $10 billion or more in total assets before institutions must complete Memorandum items 5.a though 6.g, columns A through D, as the agencies no longer need this information in the Call Report from institutions under this proposed threshold.

Schedule RC-C, Part I

For the FFIEC 031, the agencies propose to reduce the reporting frequency of Memorandum items 7.a, 7.b, 8.a, 8.b, 8.c, and 12.a through 12.d (columns A through C) from quarterly to semiannual (June 30 and December 31), as the agencies no longer need these loan data in the Call Report as frequently.

Schedule RC-D

For the FFIEC 031, the agencies propose to change the reporting threshold for the overall schedule so that the schedule would be applicable to institutions with total trading assets of $10 million or more in any of the four preceding calendar quarters from the current threshold of $2 million or more in average trading assets over this same period. In addition, all institutions meeting the FDIC's definition of a large institution or a highly complex institution for deposit insurance assessment purposes would be required to complete Schedule RC-D. The agencies are proposing this reporting threshold change because they no longer need to collect the existing detailed data in the Call Report from institutions with a lesser amount of trading assets that are not large or highly complex institutions.

The agencies also propose to consolidate:

• Structured financial products in items 5.a.(1) through 5.a.(3) into a single item 5.a;

• Loan detail in current items 6.a.(1), 6.a.(2), 6.a.(4), and 6.a.(5) into a single new item 6.a.(2);

• Certain residential loan detail in current items 6.a.(3)(a) through 6.a.(3)(b)(2) into a single new item 6.a.(1);

• Consumer loan information in items 6.c.(1) through 6.c.(4) into a single item 6.c;

• Loan detail in Memorandum items 1.a.(1), 1.a.(2), 1.a.(4), and 1.a.(5) into a single new Memorandum item 1.a.(2);

• Certain residential loan detail in Memorandum items 1.a.(3)(a) through 1.a.(3)(b)(2) into a single new Memorandum item 1.a.(1); and

• Consumer loan information in Memorandum items 1.c.(1) through 1.c.(4) into a single new Memorandum item 1.c.

The agencies no longer need to collect the current level of detail in the Call Report from those institutions that would be required to complete Schedule RC-D under its proposed revised reporting threshold.

The agencies also propose to remove column B (domestic offices) for all items on Schedule RC-D, except for items 12 and 15 on total trading assets and total trading liabilities in domestic offices, respectively, which will be moved to Schedule RC-H, Selected Balance Sheet Items for Domestic Offices. In addition, the agencies would replace the detailed data on loans held for trading in domestic offices that is reported in items 6.a.(1) through 6.d, column B, of Schedule RC-D with a single new item for total loans held for trading in domestic offices that would be added to Schedule RC-H. The agencies propose these changes as they no longer need separately reported data in the Call Report on assets and liabilities held for trading in domestic offices other than for the three items on total trading assets, total trading liabilities, and total loans held for trading in domestic offices that would be reported in Schedule RC-H. Institutions would continue to report amounts in Schedule RC-D only for the consolidated entity, which they currently report in column A.

In addition, the agencies propose to add a reporting threshold of $10 billion or more in total trading assets before an institution would be required to complete Memorandum items 2.a though 5.f and 7.a through 10, as the agencies no longer need this level of detail in the Call Report from institutions with a lesser amount of trading assets. The agencies also propose to remove Memorandum item 6, as the agencies no longer need this information.

Schedule RC-H

For the FFIEC 031, in connection with removing the separate detail for trading assets and liabilities in domestic offices from Schedule RC-D, the agencies propose to retain and relocate selected data items to Schedule RC-H, Selected Balance Sheet Items for Domestic Offices. As noted above, the agencies propose relocating total trading assets and total trading liabilities in domestic offices from Schedule RC-D, column B, items 12 and 15, to Schedule RC-H, new items 19 and 20, respectively. Also, the agencies propose to aggregate all loans held for trading in domestic offices currently reported on Schedule RC-D, column B, items 6.a through 6.d (including all subitems), into a single new item, Schedule RC-H, item 21. These three items would be completed by institutions that reported total trading assets of $10 million or more in any of the four preceding calendar quarters and by all institutions meeting the FDIC's definition of a large or highly complex institution for deposit insurance assessment purposes. The agencies believe relocating this data from Schedule RC-D to Schedule RC-H will improve efficiency by consolidating additional domestic office information on Schedule RC-H.

Schedule RC-K

For the FFIEC 031, the agencies propose to add a reporting threshold for item 7 on average trading assets. This item would only need to be completed by institutions with $10 million or more in total trading assets in any of the four preceding calendar quarters and by all institutions meeting the FDIC's definition of a “large institution” or a “highly complex institution” for deposit insurance assessment purposes. This proposed new reporting threshold is consistent with the proposed revised threshold for completing Schedule RC-D discussed above. The agencies no longer need this information in the Call Report each quarter from institutions with less than $10 million in trading assets that are not large or highly complex institutions.

Schedule RC-L

For the FFIEC 031, the agencies propose to consolidate items 1.a.(1) and 1.a.(2) into a single item 1.a.(1), as the agencies no longer need the current level of detail for these types of unused commitments. The agencies also propose to remove column B for items 16.a through 16.b.(8), and instead include these data on over-the-counter derivatives within column E for derivatives with all other counterparties. The agencies no longer need the separate detail in the Call Report provided by the disaggregated data on over-the-counter derivatives for monoline financial guarantors in column B. The agencies also propose to reduce the reporting frequency of items 1.b.(1), 1.b.(2), 11.a, and 11.b from quarterly to semiannual (June 30 and December 31), as the agencies no longer need these data in the Call Report as frequently.

Schedule RC-M

For the FFIEC 031, the agencies propose to consolidate items 2.b and 2.c, which provide data on certain intangible assets, into a single item 2.c,¹⁹ and to consolidate other real estate owned items 3.c and 3.f into a single item 3.c, as the agencies no longer need the current level of detail in the Call Report that is provided in these separate items. As discussed earlier under Schedule RC, the agencies are moving the goodwill amount formerly reported in Schedule RC, item 10.a, to a recaptioned item 2.b on Schedule RC-M. The agencies also propose to reduce the reporting frequency for items 9 (Web site transactional capability), 14.a (captive insurance subsidiary assets), and 14.b (captive reinsurance subsidiary assets) from quarterly to annual (December 31), as the agencies no longer need these data in the Call Report as frequently.

¹⁹ As explained in the description of the proposed revisions to Schedule RC of the FFIEC 031, existing item 2.b of Schedule RC-M would be replaced by a revised item 2.b for reporting goodwill.

Schedule RC-N

For the FFIEC 031, the agencies propose to reduce the reporting frequency of Memorandum items 7 and 8 on nonaccrual assets and Memorandum items 9.a and 9.b on purchased credit-impaired loans from quarterly to semiannual (June 30 and December 31), as the agencies no longer need these data in the Call Report as frequently. In connection with this proposed change, Memorandum items 7 and 8 would collect data on additions to nonaccrual assets and nonaccrual asset sales, respectively, during the preceding six months rather than the preceding quarter as at present.

D. Additional Proposed Revisions to All Versions of the Call Report

1. Instructional Revision for the Reporting of Assets as “Past Due”

Under the current Call Report instructions, closed-end installment loans, amortizing loans secured by real estate, and any other loans and lease financing receivables with payments scheduled monthly are to be reported as past due in Schedule RC-N, Past Due and Nonaccrual Loans, Leases, and Other Assets, when the borrower is in arrears two or more monthly payments. This has been interpreted to mean that a loan is to be reported as past due if two monthly payments have not been received by the close of business on the due date of the second monthly payment. Similarly, the Call Report instructions provide that open-end credit such as credit cards, check credit, and other revolving credit plans are to be reported as past due when the customer has not made the minimum payment for two or more billing cycles. The instructions also provide that, at an institution's option, loans and leases with payments scheduled monthly may be reported as past due when one scheduled payment is due and unpaid for 30 days or more.

The agencies note there is an existing widely used industry standard, known as the Mortgage Bankers Association (MBA) method, which provides that loans with payments scheduled monthly become 30 days past due if a monthly payment is not received by the end of the day immediately preceding the loan's next due date. The agencies understand that the MBA method is used by most major mortgage data repositories, including the three major credit bureaus and two major mortgage loan data processing service bureaus used by institutions. The MBA method is also used by reporting forums such as the MBA, McDash Analytics, and the OCC Mortgage Metrics Reports.

Therefore, to promote the use of a consistent standard in the industry and reduce the burden for certain institutions calculating past-due loans under two methods, i.e., one method for Call Report purposes and a different method for other reporting purposes, the agencies propose to modify the definition of “past due” for regulatory reporting purposes that is currently contained in the general instructions of Schedule RC-N to align with the MBA method.²⁰ Specifically, closed-end installment loans, amortizing loans secured by real estate, and any other loans and lease financing receivables with payments scheduled monthly, as well as open-end credit such as credit cards, check credit, and other revolving credit plans with payments scheduled monthly, would be reported as past due in Schedule RC-N if a payment is not received by the end of the day immediately preceding the loan's next payment due date. For institutions with consolidated assets of more than $50 billion, the agencies estimate that using the MBA method to report loans as 30 through 89 day past due in the Call Report would have resulted in approximately $15 billion in additional loans being reported as past due as of December 31, 2015, compared to the amount of loans reported as past due in accordance with the current Call Report instructions.

²⁰ Aligning the instructions with the MBA method would also remove the existing option for monthly payment loans and leases under which such loans may be reported as past due when one scheduled payment is due and unpaid for 30 days.

The following are examples of the application of this proposed revised past due definition:

• A monthly loan payment is due April 1. With no payment received by the end of the day on April 30, which is the day immediately preceding the loan's next payment due date, the loan would be considered 30 days past due for reporting purposes as of April 30. With no monthly payment received by May 31, the loan would be 61 days past due as of May 31. With no monthly payment received by June 30, the loan would be 91 days past due as June 30. For the June 30 Call Report, this loan would be reported in the 90 days or more past due category (unless it had been placed in nonaccrual status).

• A monthly loan payment is due April 15. With no payment received by April 30, the loan is not a full month past due, so it would not be considered past due for regulatory reporting purposes until May 14, which is the day immediately preceding the loan's next payment due date. The loan will be 46 days past due if payment has not been received as of May 31 and 76 days past due if payment has not been received as of June 30. For the June 30 Call Report, this loan would be reported in the 30 through 89 days past due category (unless it had been placed in nonaccrual status).

The agencies believe that aligning the Call Report method for determining past due status with an accepted industry standard for determining past due status (i.e., the MBA method) would lessen the burden imposed on institutions that maintain two separate processes for reporting loan delinquencies. Further, the agencies believe that consistent reporting on the past due status of loans is increasingly important as institutions plan their implementation of a new accounting standard on credit losses.

The agencies invite comment on any difficulties that institutions would encounter in applying this proposed modified past due definition beginning as of the March 31, 2018, report date.

2. Proposed Call Report Revisions To Address Changes in Accounting for Equity Investments

In January 2016, the Financial Accounting Standards Board (FASB) issued ASU 2016-01, “Recognition and Measurement of Financial Assets and Financial Liabilities.” In its summary of this ASU, the FASB described how one of the main provisions of the ASU differs from current U.S. generally accepted accounting principles (GAAP) as follows:

The amendments in this Update supersede the guidance to classify equity securities with readily determinable fair values into different categories (that is, trading or available-for-sale) and require equity securities (including other ownership interests, such as partnerships, unincorporated joint ventures, and limited liability companies) to be measured at fair value with changes in the fair value recognized through net income. An entity's equity investments that are accounted for under the equity method of accounting or result in consolidation of an investee are not included within the scope of this Update.

The FASB further stated in the summary that “an entity may choose to measure equity investments that do not have readily determinable fair values at cost minus impairment, if any, plus or minus changes resulting from observable price changes in orderly transactions for the identical or a similar investment of the same issuer.”

Institutions must apply ASU 2016-01 for Call Report purposes in accordance with the effective dates set forth in the ASU. For institutions that are public business entities, as defined in U.S. GAAP, ASU 2016-01 is effective for fiscal years beginning after December 15, 2017, including interim periods within those fiscal years. For example, an institution with a calendar year fiscal year that is a public business entity must begin to apply ASU 2016-01 in its Call Report for March 31, 2018. For all other institutions, the ASU is effective for fiscal years beginning after December 15, 2018, and interim periods within fiscal years beginning after December 15, 2019. For example, an institution with a calendar year fiscal year that is not a public business entity must begin to apply ASU 2016-01 in its Call Report for December 31, 2019.

One outcome of the change in accounting for equity investments under ASU 2016-01 is the elimination of the concept of available-for-sale (AFS) equity securities, which are measured at fair value on the balance sheet with changes in fair value recognized through other comprehensive income. At present, the historical cost and fair value of AFS equity securities, i.e., investments in mutual funds and other equity securities with readily determinable fair values that are not held for trading, are reported in Call Report Schedule RC-B, item 7, columns C and D, respectively. The total fair value of AFS securities, which includes both debt and equity securities, is then carried forward to the Call Report balance sheet and reported in Schedule RC, item 2.b. In the FFIEC 041 and FFIEC 031 Call Reports, the total fair value of AFS securities reported in Schedule RC, item 2.b, also is reported in item 1, column A, of Schedule RC-Q, Assets and Liabilities Measured at Fair Value on a Recurring Basis, by institutions required to complete this schedule.²¹ These institutions then report in columns C, D, and E of item 1 a breakdown of their AFS debt securities by the level in the fair value hierarchy within which the fair value amounts of these securities fall (Level 1, 2, or 3). Any balance sheet netting adjustments to these fair value amounts are reported in column B of item 1.

²¹ Schedule RC-Q is to be completed by (1) institutions that had total assets of $500 million or more as of the beginning of their fiscal year and (2) other institutions that either have elected to report financial instruments or servicing assets and liabilities at fair value under a fair value option or are required to complete Schedule RC-D, Trading Assets and Liabilities. Schedule RC-Q is not included in the FFIEC 051 Call Report.

In addition, the total fair value of AFS securities is reported in Schedule RC-R, Part II, for risk-weighting purposes under the agencies' regulatory capital rules. This fair value amount is reported in Schedule RC-R, Part II, item 2.b, column A, except for the fair value of those AFS securities that qualify as securitization exposures, which is reported in Schedule RC-R, Part II, item 9.b, column A. To the extent appropriate under the regulatory capital rules, adjustments to the fair values reported in column A of items 2.b and 9.b are reported in column B. The adjusted amount in item 2.b is then allocated to the appropriate risk-weight category in columns C through N. The adjusted amount of AFS securitization exposures in item 9.b is reported by risk-weight category in column Q or by risk-weighted asset amount in column T or U based on the risk-weighting approach or approaches applied by an institution.

At present, the accumulated balance of the unrealized gains (losses) on AFS equity securities, net of applicable income taxes, that have been recognized through other comprehensive income is included in accumulated other comprehensive income (AOCI), which is reported in the equity capital section of the Call Report balance sheet in Schedule RC, item 26.b. With the elimination of AFS equity securities on the effective date of ASU 2016-01, the net unrealized gains (losses) on these securities that had been included in AOCI will be reclassified (transferred) from AOCI into the retained earnings component of equity capital, which is reported on the Call Report balance sheet in Schedule RC, item 26.a. After the effective date, changes in the fair value of (i.e., the unrealized gains and losses on) an institution's equity securities that would have been classified as AFS had the previously applicable accounting standards remained in effect will be recognized through net income rather than other comprehensive income.

The effect of the elimination of AFS equity securities as a distinct asset category upon institutions' implementation of ASU 2016-01 carries over to the agencies' regulatory capital rules. Under these rules, institutions that are eligible to and have elected to make the AOCI opt-out election deduct net unrealized losses on AFS equity securities from common equity tier 1 capital and include 45 percent of pretax net unrealized gains on AFS equity securities in tier 2 capital. For purposes of reporting regulatory capital components and ratios in the Call Report, the deduction of these net unrealized losses is currently effected through the combination of Schedule RC-R, Part I, items 9.a, “LESS: Net unrealized gains (losses) on available-for-sale securities,” and 9.b, “LESS: Net unrealized loss on available-for-sale preferred stock classified as an equity security under GAAP and available-for-sale equity exposures.” The inclusion of 45 percent of pretax net unrealized gains in tier 2 capital currently occurs through the reporting of this percentage of an institution's gains in Schedule RC-R, Part I, item 31, “Unrealized gains on available-for-sale preferred stock classified as an equity security under GAAP and available-for-sale equity exposures includable in tier 2 capital.” When ASU 2016-01 takes effect and the classification of equity securities as AFS is eliminated for accounting and reporting purposes under U.S. GAAP, the concept of unrealized gains and losses on AFS equity securities will likewise cease to exist.

Another outcome of the change in accounting for equity investments under ASU 2016-01 is that equity securities and other equity investments without readily determinable fair values that are within the scope of ASU 2016-01 and are not held for trading must be measured at fair value through net income, rather than at cost (less impairment, if any), unless the measurement election described above is applied to individual equity investments. In general, institutions currently report their holdings of such equity securities without readily determinable fair values as a category of other assets in Call Report Schedule RC-F, item 4. The total amount of an institution's other assets is reported on the Call Report balance sheet in Schedule RC, item 11.

At present, AFS equity securities and equity investments without readily determinable fair values are included in the quarterly averages reported in Schedule RC-K. Institutions report the quarterly average for “All other securities” in item 4 of this schedule and this average reflects AFS equity securities at historical cost. A quarterly average for total assets is reported in item 9 of Schedule RC-K. Among its uses, average total assets serves as the starting point for determining the denominator for the tier 1 leverage ratio under the agencies' regulatory capital rules. The quarterly average for total assets currently reflects AFS equity securities at the lower of cost or fair value and equity securities without readily determinable fair values at historical cost.

Finally, institutions with foreign offices report the fair value of their AFS equity securities in domestic offices and the historical cost of their equity securities without readily determinable fair values in domestic offices in Schedule RC-H, items 16 and 18, respectively, of the FFIEC 031 Call Report. The domestic office holdings of these equity securities are components of the AFS equity securities and equity securities without readily determinable fair values reported on a consolidated basis in Schedule RC-B, item 7, and Schedule RC-F, item 4, respectively.

The agencies have considered the changes to the accounting for equity investments under ASU 2016-01 and the effect of these changes on the manner in which data on equity securities and other equity investments is currently reported in the Call Report. The agencies also note that, because of the different effective dates for ASU 2016-01 for public business entities and all other entities, as well as the varying fiscal years across the population of institutions that file Call Reports, the period over which institutions will be implementing this ASU ranges from the first quarter of 2018 through the fourth quarter of 2020. December 31, 2020, will be the first quarter-end Call Report date as of which all institutions would be required to prepare their Call Reports in accordance with ASU 2016-01. As a result, the agencies are proposing revisions to the reporting of information on equity securities and other equity investments in response to the ASU that would be introduced in the Call Report effective March 31, 2018, but would not be fully phased in until the Call Report for December 31, 2020. In developing these proposed Call Report revisions, the agencies have followed the guiding principles for evaluating potential additions and deletions of Call Report data items and other revisions to the Call Report identified in Section I above. In following these principles, the agencies have sought to limit the number of data items being added to the Call Report to address the changes in accounting for equity securities and other equity investments.

The proposed Call Report revisions related to equity securities are as follows:

(1) To provide transparency to the effect of unrealized gains and losses on equity securities not held for trading on an institution's net income during the year-to-date reporting period in Schedule RI, Income Statement, and to clearly distinguish these gains and losses from the rest of an institution's income (loss) from its continuing operations, Schedule RI, item 8, would be revised effective March 31, 2018, by creating new items 8.a, “Income (loss) before unrealized holding gains (losses) on equity securities not held for trading, applicable income taxes, and discontinued operations,” and 8.b, “Unrealized holding gains (losses) on equity securities not held for trading.” In addition to unrealized holding gains (losses) during the year-to-date reporting period on such equity securities with readily determinable fair values, institutions also would report in proposed new item 8.b the year-to-date changes in the carrying amounts of equity investments without readily determinable fair values not held for trading (i.e., unrealized holding gains (losses) for those measured at fair value through earnings; impairment, if any, plus or minus changes resulting from observable price changes for those equity investments for which this measurement election is made). Existing Schedule RI, item 8, “Income (loss) before applicable income taxes and discontinued operations,” would be renumbered as item 8.c, and would be the sum of items 8.a and 8.b. From March 31, 2018, through September 30, 2020, the instructions for item 8.b and the reporting form for Schedule RI would include guidance stating that item 8.b is to be completed only by institutions that have adopted ASU 2016-01. Institutions that have not adopted ASU 2016-01 would leave item 8.b blank when completing Schedule RI. Finally, from March 31, 2018, through September 30, 2020, the instructions for Schedule RI, item 6.b, “Realized gains (losses) on available-for-sale securities,” and the reporting form for Schedule RI would include guidance stating that, for institutions that have adopted ASU 2016-01, item 6.b includes realized gains (losses) only on AFS debt securities. Effective December 31, 2020, the caption for item 6.b would be revised to “Realized gains (losses) on available-for-sale debt securities.”

(2) On the FFIEC 031, certain institutions with foreign offices must complete Schedule RI-D, Income from Foreign Offices. As stated in the instructions for Schedule RI-D, “[f]or the most part, the income and expense items in Schedule RI-D mirror categories of income and expense reported in Schedule RI.” However, Schedule RI-D collects much less detail on an institution's income and expense than Schedule RI. The instructions for Schedule RI would be revised effective March 31, 2018, to indicate that, for institutions that have adopted ASU 2016-01, the amount of unrealized holding gains (losses) on equity securities not held for trading in foreign offices that is included in Schedule RI, item 8.b, should be reported in Schedule RI-D, item 5, “Realized gains (losses) on held-to-maturity and available-for-sale securities in foreign offices.” Effective December 31, 2020, the caption for item 5 would be revised to “Realized gains (losses) on held-to-maturity and available-for-sale debt securities and unrealized holding gains (losses) on equity securities not held for trading in foreign offices.”

(3) In Schedule RC, Balance Sheet, a new item 2.c, “Equity securities with readily determinable fair values not held for trading,” would be added effective March 31, 2018. From March 31, 2018, through September 30, 2020, the instructions for item 2.c and the reporting form for Schedule RC would include guidance stating that item 2.c is to be completed only by institutions that have adopted ASU 2016-01. Institutions that have not adopted ASU 2016-01 would leave item 2.c blank. During this period, the instructions for Schedule RC, item 2.b, “Available-for-sale securities,” would explain that institutions that have adopted ASU 2016 01 should include only debt securities in item 2.b. Effective December 31, 2020, the caption for item 2.b would be revised to “Available-for-sale debt securities” and all institutions would report their holdings of equity securities with readily determinable fair values not held for trading in item 2.c.

(4) In Schedule RC-B, Securities, item 7, “Investments in mutual funds and other equity securities with readily determinable fair values,” would be removed effective December 31, 2020. From March 31, 2018, through September 30, 2020, the instructions for item 7 and the reporting form for Schedule RC-B would include guidance stating that item 7 is to be completed only by institutions that have not adopted ASU 2016-01. Institutions that have adopted ASU 2016-01 would leave item 2.c blank.

(5) In Schedule RC-F, Other Assets, the caption for item 4 would be changed from “Equity securities that DO NOT have readily determinable fair values” to “Equity investments without readily determinable fair values” effective March 31, 2018. The types of equity securities and other equity investments currently reported in item 4 would continue to be reported in this item. However, after the effective date of ASU 2016-01 for an institution, the securities the institution reports in item 4 would be measured in accordance with the ASU.

(6) In Schedule RC-H, Selected Balance Sheet Items for Domestic Offices, of the FFIEC 031, item 16, “Investments in mutual funds and other equity securities with readily determinable fair values,” would be removed effective December 31, 2020, and the caption for item 17 would be changed from “Total held-to-maturity and available-for-sale securities (sum of items 10 through 16)” to “Total held-to-maturity and available-for-sale debt securities (sum of items 10 through 15).” From March 31, 2018, through September 30, 2020, the instructions for item 16 and the reporting form for Schedule RC-H would include guidance stating that item 16 is to be completed only by institutions that have not adopted ASU 2016-01. Institutions that have adopted ASU 2016-01 would leave item 16 blank. In addition, effective March 31, 2018, item 18, “Equity securities that do not have readily determinable fair values,” would be replaced by item 18.a, “Equity securities with readily determinable fair values,” and item 18.b, “Equity investments without readily determinable fair values.” From March 31, 2018, through September 30, 2020, the instructions for item 18.a and the reporting form for Schedule RC-H would include guidance stating that item 18.a is to be completed only by institutions that have adopted ASU 2016-01. Institutions that have not adopted ASU 2016-01 would leave item 18.a blank. The types of equity securities and other equity investments without readily determinable fair values that are currently reported in item 18 would be reported in item 18.b.

(7) In Schedule RC-K, Quarterly Averages, the caption for item 4, “All other securities,” would be changed to “All other debt securities and equity securities with readily determinable fair values not held for trading purposes” effective March 31, 2018. From March 31, 2018, through September 30, 2020, the instructions for item 4 and the reporting form for Schedule RC-K would include guidance indicating that, for institutions that have adopted ASU 2016-01, the quarterly average for equity securities with readily determinable fair values should be based on fair value and, for institutions that have not adopted ASU 2016-01, the quarterly average for such equity securities (i.e., AFS equity securities) should be based on historical cost. Effective December 31, 2020, this guidance would indicate that the quarterly average for equity securities with readily determinable fair values not held for trading should be based on fair value, which would apply to all institutions. In addition, for Schedule RC-K, item 9, “Total assets,” the instructions for this item and the Schedule RC-K reporting form would include guidance from March 31, 2018, through September 30, 2020, stating that, for purposes of reporting the quarterly average for total assets:

• Institutions that have adopted ASU 2016-01 should reflect the quarterly average for equity securities with readily determinable fair values at fair value and the quarterly average for equity securities without readily determinable fair values at their balance sheet carrying amounts (i.e., fair value or, if elected, cost minus impairment, if any, plus or minus changes resulting from observable price changes), and

• Institutions that have not adopted ASU 2016-01 should reflect the quarterly average for equity securities with readily determinable fair values at the lower of cost or fair value and the quarterly average for equity securities without readily determinable fair values at historical cost.

Then, effective December 31, 2020, the instructions for item 9 and the Schedule RC-K reporting form would indicate that, for equity securities not held for trading, the quarterly average for total assets should reflect such securities with readily determinable fair values at fair value and those without readily determinable fair values at their balance sheet carrying amounts.

(8) In Schedule RC-Q on the FFIEC 041 and FFIEC 031, the caption for item 1, “Available-for-sale securities,” would be changed to “Available-for-sale debt securities and equity securities with readily determinable fair values not held for trading purposes” effective March 31, 2018. From March 31, 2018, through September 30, 2020, the instructions for item 1 and the reporting form for Schedule RC-Q would include guidance stating that, for institutions that have adopted ASU 2016-01, the amount reported in item 1, column A, must equal the sum of Schedule RC, items 2.b and 2.c, and for institutions that have not adopted ASU 2016-01, the amount reported in item 1, column A, must equal Schedule RC, item 2.b. Effective December 31, 2020, this guidance would indicate that the amount reported in item 1, column A, must equal the sum of Schedule RC, items 2.b and 2.c.

(9) In Schedule RC-R, Part I, Regulatory Capital Components and Ratios, the instructions for item 9.a and the Schedule RC-R reporting form would include guidance from March 31, 2018, through September 30, 2020, stating that, for institutions that have not adopted ASU 2016-01, item 9.a should include net unrealized gains (losses) on AFS debt and equity securities and, for institutions that have adopted the ASU, item 9.a should include net unrealized gains (losses) on AFS debt securities. During this same period, the instructions for item 9.b and the Schedule RC-R reporting form would include guidance indicating that item 9.b is to be completed only by institutions that have not adopted ASU 2016-01. Effective December 31, 2020, item 9.b would be removed and the caption for item 9.a would be revised to “LESS: Net unrealized gains (losses) on available-for-sale debt securities.” In addition, from March 31, 2018, through September 30, 2020, the instructions for Schedule RC-R, Part I, item 31, and the Schedule RC-R reporting form would include guidance indicating that item 31 is to be completed only by institutions that have not adopted ASU 2016-01. During this period, institutions that have adopted the ASU would leave item 31 blank. Then, effective December 31, 2020, item 31 would be removed from Schedule RC-R, Part I.

(9) In Schedule RC-R, Part II, Risk-Weighted Assets, revisions would be made to item 2 that correspond to those made to Schedule RC, item 2. A new item 2.c, “Equity securities with readily determinable fair values not held for trading,” would be added to Schedule RC-R, Part II, effective March 31, 2018. Applicable risk weights for new item 2.c would be 100 percent, 250 percent, 300 percent, and 600 percent; amounts also could be reported in columns R and S. From March 31, 2018, through September 30, 2020, the instructions for item 2.c and the reporting form for Schedule RC-R, Part II, would include guidance stating that item 2.c is to be completed only by institutions that have adopted ASU 2016-01. During the same period, the instructions for Schedule RC-R, Part II, item 2.b, “Available-for-sale securities,” would explain that institutions that have adopted ASU 2016-01 should include only debt securities in this item. Effective December 31, 2020, the caption for item 2.b would be revised to “Available-for-sale debt securities” and the 250 percent, 300 percent, and 600 percent risk weights plus columns R and S would be removed from item 2.b.

IV. Timing

The proposed changes in this notice would be effective beginning with the March 31, 2018, Call Report. The agencies are considering whether some or all of the changes proposed in Sections III.A through III.C instead should become effective with the December 31, 2017, Call Report to provide burden relief at an earlier date. However, the agencies recognize that it could be more burdensome for institutions to implement revisions at year-end rather than in the first quarter of the year.

For the March 31, 2018, report date or any earlier effective date, as applicable, institutions may provide reasonable estimates for any new or revised Call Report data item initially required to be reported as of that date for which the requested information is not readily available. The specific wording of the captions for the new or revised Call Report data items discussed in this proposal and the numbering of these data items should be regarded as preliminary.

V. Request for Comment

Public comment is requested on all aspects of this joint notice. Comment is specifically invited on:

(a) Whether institutions prefer the agencies' approach to implement all the revisions as of March 31, 2018, or whether institutions would prefer an earlier implementation date for some or all of the revisions proposed in Sections III.A through III.C of this notice;

(b) Whether the proposed revisions to the collections of information that are the subject of this notice are necessary for the proper performance of the agencies' functions, including whether the information has practical utility;

(c) The accuracy of the agencies' estimates of the burden of the information collections as they are proposed to be revised, including the validity of the methodology and assumptions used;

(d) Ways to enhance the quality, utility, and clarity of the information to be collected;

(e) Ways to minimize the burden of information collections on respondents, including through the use of automated collection techniques or other forms of information technology; and

(f) Estimates of capital or start-up costs and costs of operation, maintenance, and purchase of services to provide information.

Comments submitted in response to this joint notice will be shared among the agencies. All comments will become a matter of public record.

Appendix A

Summary of the FFIEC Member Entities' Uses of the Data Items in the Call Report Schedules in the Portion of the User Surveys Evaluated in the Development of This Proposal

Schedule RI-D (Income from Foreign Offices) [FFIEC 031 only]

Schedule RI-D collects data on income from foreign offices. Collectively, the data are used in country and currency risk analyses to monitor the level, trend, quality and sustainability of the income component of foreign offices. These data help support a variety of examination activities that include, but are not limited to, earnings and yield analysis, asset securitizations, core assessment, price risk, and trading. Quarterly data also improve the offsite monitoring of trading and asset management activities. Data on investment banking, advisory, brokerage, and underwriting fees and commissions are used to track the global asset management activities of institutions with foreign offices. The global presence of these activities adds to the complexity of the asset management business conducted by financial institutions and this information is continually monitored to detect potential shifts in business models. It also serves as one component of measurement of the degree of global interconnectedness and systemic risk.

Schedule RI-E (Explanations)

Schedule RI-E collects explanations for items that significantly contribute to the total amounts reported for other noninterest income and other noninterest expense. Since other noninterest income makes up almost half of total noninterest income and other noninterest expense makes up approximately 40 percent of noninterest expense on an aggregate basis for all filers of the Call Report, data on the composition of each of these income statement data items is essential to understanding what is driving the level of and changes over time in these data items at individual institutions. The stratification of the information in this schedule allows for identification of potential unusual sources of changes in earnings that affect trend analyses. This information is particularly important for identifying losses of an unusual or nonrecurring nature when an institution is in a stressed condition, which was evident during the recent financial crisis. This stratified noninterest income and expense information continues to be critical in understanding the causes of swings in an institution's profitability.

Schedule RI-E also collects descriptive information on discontinued operations, significant adjustments to the allowance for loan and lease losses (ALLL), accounting changes and error corrections, and certain capital transactions with stockholders. These data items provide the agencies and their examiners better insight on factors driving changes in net income and the ALLL (due to sources other than provisions, charge-offs, and recoveries), along with nonrecurring types of changes in institutions' equity capital.

The detailed breakdown of components of other noninterest income in excess of the Schedule RI-E reporting threshold is essential to the Consumer Financial Protection Bureau's (CFPB) understanding of the viability of institutions' offerings of consumer services regulated by the CFPB. This information provides unique insights into institutions' reliance on key revenue streams that can impact consumer access to and the availability of services. These streams include bank and credit card interchange, income and fees from automated teller machines, and institution-described components of other noninterest income. This information also helps the CFPB monitor trends in the consumer marketplace. Similarly, the detailed breakdown of other noninterest expense facilitates the CFPB's ability to conduct statutorily-required cost analyses for rulemakings and other policy endeavors.

Schedule RC-B (Securities)

Information collected on Schedule RC-B is essential for assessment of liquidity risk, market risk, interest rate risk, and credit risk. Specifically, information on held-to-maturity, available-for-sale, and pledged securities is critical for analysis of the institution's ability to manage short-term financial obligations without negatively impacting capital or income (liquidity risk), and risk of loss due to market movements (market risk). Maturity and repricing information on debt securities collected in the Memorandum items on Schedule RC-B, together with the maturity and repricing information collected in other schedules for other types of assets and liabilities, is critical for the assessment of the risk to an institution from changes in interest rates (interest rate risk), and also contributes to the evaluation of liquidity. Thus, the maturity and repricing information collected throughout the Call Report also aids in evaluating the strategies institutions take to mitigate liquidity and interest rate risks. Liquidity and interest rate risk indicators that are calculated by agency models from an institution's Call Report data and exceed specified parameters or change significantly between examinations are red flags that call for timely examiner off-site review.

In this regard, the reported amount of debt securities with a remaining maturity of one year or less is a key input into the calculation of an institution's short-term assets that, when analyzed in conjunction with non-core funding data, can indicate the extent to which the institution is relying on short-term funding to fund longer-term assets, which presents an exposure to liquidity risk. Further, liquidity risk inputs into agency models that vary by type of security provide examiners the ability to customize and apply liquidity stress tests. Extensive back testing has shown that the liquidity risk inputs for securities contain substantial forward-looking information by which to ascertain the likelihood that an institution would be able to avoid significant liquidity problems in a stressed environment.

As another example, agency models that consider both the amortized cost and fair value of held-to-maturity and available-for-sale securities reported in Schedule RC-B are used for off-site monitoring of interest rate risk to identify individual institutions that may be significantly exposed to rising interest rates. Individual types of securities from Schedule RC-B are grouped into major categories for purposes of performing duration-based analyses of potential investment portfolio depreciation for both severe and more moderate interest rate increases. The Schedule RC-B data for these groupings of securities, together with Call Report data for other types of balance sheet assets and liabilities, also serve as inputs to quarterly duration-based estimates of potential changes in fair values for the overall balance sheet in response to various forecasted interest rate changes. Outlier institutions identified by these models are the subject of prompt supervisory follow-up to address their interest rate risk exposure.

The institution's risk profile in these areas is considered during pre-examination planning to determine the appropriate scoping and staffing for examinations. For example, the quarterly reporting of the Call Report information on held-to-maturity and available-for-sale securities also aids in the identification of low-risk areas prior to on-site examinations, allowing the agencies to improve the allocation of their supervisory resources and increase the efficiency of supervisory assessments, which reduces the scope of examinations in these areas, thereby reducing regulatory burden.

Information on the amortized cost and fair value of the securities portfolio allows for measurement of depreciation/appreciation, which is important for assessing the potential impact that unrealized gains and losses may have on earnings and liquidity. Unrealized gains and losses on available-for-sale equity securities and, for certain institutions, unrealized gains and losses on available-for-sale debt securities are an integral input into regulatory capital calculations. Furthermore, because the amount of unrealized gains and losses on both held-to-maturity and available-for-sale debt securities is an indicator of risk in the debt securities portfolio, it also is a key factor in examiners' qualitative assessments of capital adequacy.

Data showing significant depreciation in specific types of securities not issued or guaranteed by the U.S. government or its agencies can signal an institution's failure to properly evaluate the existence of other-than-temporary impairments arising from credit losses and other factors. Similarly, data on year-to-date sales and transfers of held-to-maturity securities is a basis for off-site or on-site follow-up by examiners to determine whether the reasons for these transactions are acceptable under U.S. GAAP or have resulted in the tainting of this securities portfolio. In addition, the reporting of debt securities by security type is important to identify concentrations in higher risk types of investments, which may have greater liquidity and/or credit risk than other types of securities. Information on investments in securities issued by states and political subdivisions in the United States is used by many state regulatory agencies as a starting point for monitoring compliance with certain state municipal investment regulations. The amortized cost and fair value of held-to-maturity and available-for-sale debt securities, respectively, for certain types of securities as well as the fair value of all U.S. Treasury and Government agency securities are used in the risk-based premium deposit insurance pricing methodology for large institutions and highly complex institutions.

Schedule RC-D (Trading Assets and Liabilities) [FFIEC 031 and FFIEC 041 only]

Schedule RC-D collects information on trading activity from institutions with more than a limited amount of trading assets in recent quarters. Trading assets are segmented into detailed securities and loan categories. Trading liabilities separately cover liability for short positions and other trading liabilities. The schedule's Memorandum items request additional information, including the unpaid principal balance of loans and the fair value of structured financial products and asset-backed securities held for trading purposes.

The information contained in Schedule RC-D is used to assess the overall composition of the institution's trading portfolio and also provides detailed information to evaluate the liquidity, credit, and interest rate risk within the trading portfolio, which impacts the overall risk profile of the institution. Data on the types of trading assets held by an institution—such as U.S. Treasury securities versus structured financial products versus commercial and industrial loans, for example—serve as a barometer of the relative levels of these risks in the trading portfolio. Regarding liquidity risk, the higher the level of more liquid assets an institution has within its trading portfolio, the more financial flexibility it has if faced with uncertainties or unfavorable market conditions. If an institution has a low level of liquid assets within its trading portfolio, this impacts its ability to rapidly adjust its holdings in response to adverse market movements. Information on the volume and composition of trading assets and how it has changed over recent quarters also can provide insight into an institution's trading strategies and its views on market trends. The assessment of trading portfolio composition and risks enters into pre-examination planning to determine the appropriate scoping and staffing for examinations of institutions engaged in trading activities.

Furthermore, data on securities and loans held for trading are combined with data on securities and loans held for investment, as reported in Schedule RC-B and Schedule RC-C, Part I, to benchmark weekly loan and security data collected by the Board from a sample of both small and large institutions. These weekly data are used to estimate weekly measures of extension of credit for the banking sector as a whole to provide a more timely input for purposes of monitoring the macroeconomy.

Information on mortgage-backed securities and mortgage loans held for trading assisted the CFPB's efforts to develop required estimates for various Title XIV mortgage reform rulemakings under the Dodd-Frank Wall Street Reform and Consumer Protection Act (Pub. L. 111-203). Going forward, data items from this schedule and Schedules RC-B and RC-C, Part I, are critical for continuous monitoring of the mortgage market. The CFPB uses these items to understand the intricacies of the mortgage market that are essential to assessing institutional participation in regulated consumer financial services markets and to assess regulatory impact associated with recent and proposed policies, as required by that agency's statutory mandate.

Schedule RC-K (Quarterly Averages)

Average quarterly asset and liability information is essential to the ability of the FFIEC member entities to more appropriately evaluate the performance of individual institutions. Quarterly average data from Schedule RC-K also provide important information at the industry level for policy review at FFIEC member entities.

The average data reported in Schedule RC-K are used in conjunction with income and expense information from Schedule RI to calculate yields and costs for the corresponding categories of assets and liabilities. These ratios are presented in the Uniform Bank Performance Report (UBPR) where they are used as a tool by examiners, both on- and off-site, to monitor and evaluate trends related to an institution's earnings and capital. These ratios also help the agencies identify trends across the banking industry. Important ratios derived from quarterly average data include, but are not limited to, earnings ratios (e.g., return on average assets, overhead ratio, and net interest margin) and the leverage capital ratio.

The granularity of the data in Schedule RC-K assists in analyzing performance within a bank's asset and liability portfolios. Quarterly average balances allow for better analyses of trends in the composition of an institution's assets and liabilities than is possible from comparisons of quarter-end data, which may be affected by fluctuations related to seasonality or abnormal levels of activity at period-end. The detailed average data used to calculate the yield on specific types of interest-earning assets helps examination teams understand the impact of credit quality on the earnings performance of particular loan portfolios. Where an institution's yields on particular types of loans exceed those of its peers, this warrants examiner scrutiny to determine whether this outcome is a result of the institution's origination or purchase of lower credit quality loans. In addition, the data on the cost of funds by funding type is important in assessing the funding mix at the institution level for oversight purposes. Higher costs for particular types of deposits or other liabilities compared to these costs at an institution's peers also warrants examiner review to determine whether the institution is making greater use of more volatile non-core funding sources. The yield on interest-earning assets and cost of funds also gives insight into the effectiveness of an institution's plans and initiatives related to asset/liability mix, liquidity, and interest rate risk strategies and their resulting impact on earnings. These performance ratios are essential to the consideration of an institution's earnings during pre-examination planning to determine the appropriate scoping of this area, particularly because earnings is evaluated and rated as part of the CAMELS rating system.²²

²² CAMELS is an acronym that represents the ratings from six essential components of an institution's financial condition and operations: Capital adequacy, asset quality, management, earnings, liquidity, and sensitivity to market risk. These components represent the primary areas evaluated by examiners during examinations of institutions.

Schedule RC-L (Derivatives and Off-Balance-Sheet Items)

Schedule RC-L provides data on off-balance sheet assets and liabilities as well as derivatives contracts. The quarterly reporting of all off-balance sheet items in the Call Report is required by law (12 U.S.C. 1831n(a)(3)(C)). The most recent financial crisis emphasized the importance of identifying and monitoring significant exposures arising from any contingent or off-balance sheet liabilities and the effect of these exposures on an institution's overall risk profile. The granular data on components of off-balance sheet items, as well as derivatives data, assist the banking agencies in ensuring the safety and soundness of financial institutions through both off-site and on-site monitoring of a variety of potential risks. These risks include, but are not limited to, liquidity risk, credit risk, interest rate risk (IRR), and foreign exchange risk. The data on Schedule RC-L also is essential for the examination scoping process, which begins during pre-examination planning. The data offer insight into outliers and exceptions, which provide information to examiners on areas on which to focus during their on-site examinations.

The data on Schedule RC-L on the FFIEC 031 and FFIEC 041 is useful in determining an institution's potential exposure to losses from derivatives activities. It is also useful in identifying the extent to which an institution may be engaging in hedging strategies that will affect its future earnings prospects. An excessive and/or inappropriate credit derivative position could have a substantial and immediate detrimental impact to an institution's liquidity, interest rate risk, earnings, or capital adequacy. For institutions with material volumes of derivatives as reported on Schedule RC-L, examiners can assess whether the institution's management has the appropriate expertise and policies in place to manage and control the risks associated with its derivatives activities and whether the institution's capital levels are commensurate with its risk exposure. This is particularly true with respect interest rate derivatives, which are the most widely held derivatives, and are commonly used in the management of interest rate risk. Schedule RC-L provides a granular perspective about the types of interest rate contracts an institution has entered into, which helps an examiner focus on assessing how effectively management uses the various types of interest rate contracts in its derivatives portfolio to hedge its exposure to interest rate risk. Also, examiners investigate fluctuations in the fair values of an institution's holdings of derivatives to determine if there are changes in the institution's risk appetite as set by the board of directors and implemented by management.

The unused commitments information on Schedule RC-L is essential to examiners, especially during periods of financial distress when borrowers rely increasingly on drawing down their lines of credit and unused commitments as a source of funding. The unused commitments data enables examiners to identify whether growth in unused commitments over time is at a manageable level and permit assessments of the potential impact, if such commitments are funded, on the credit quality of the related loan categories, as well as on the liquidity and on the capital position of an institution. Also, institutions may have a concentration in a particular loan category, which may not be readily apparent from balance sheet data until unused commitments to borrowers in this category are actually funded, which dictates that examiners consider the reported amounts on unused commitments by loan category to ensure they identify and assess the concentration risk. Financial and performance standby letters of credit also present liquidity and credit risk considerations for examiners, which also may be greater during periods of financial distress when the counterparties may be more likely to fail to perform as required under the terms of the underlying contract.

The derivatives information on Schedule RC-L is also one of the primary sources that feeds into a derivatives quarterly report that is used to report on bank trading and derivative activities. This public report issued by the OCC helps the banking agencies' on-site examiners at the largest banks to continuously evaluate the credit, market, operational, reputation, and compliance risks of bank derivative activities.

Schedule RC-M (Memoranda)

Schedule RC-M collects various types of information. Section 7(k) of the Federal Deposit Insurance Act (12 U.S.C. 1817(k)) authorizes the federal banking agencies to require the reporting and public disclosure of information concerning extensions of credit by an institution to its executive officers and principal shareholders and their related interests. Federal Reserve Board Regulation O (12 CFR 215), which has been made applicable to all institutions, imposes an aggregate lending limit on extensions of credit to insiders (executive officers, directors, principal shareholders, and their related interests) and, in general, requires an institution to make available the names of its executive officers and principal shareholders to whom the institution had outstanding as of the end of the latest previous quarter aggregate extensions of credit that, when aggregated with all other outstanding extensions of credit to such person and their related interests, equaled or exceeded the lesser of 5 percent of capital and unimpaired surplus or $500,000. The data collected in Schedule RC-M on extensions of credit to the reporting institution's insiders generally aligns with these requirements and assists the agencies in monitoring compliance with the insider lending regulations between examinations and determining whether supervisory follow-up is warranted when material increases in insider lending are identified.

Because identifiable intangible assets are deducted from regulatory capital or are subject to regulatory capital limits and deducted amounts are not risk weighted, the reporting of these amounts aids in validating an institution's regulatory capital calculations in Schedule RC-R. In addition to their treatment under the regulatory capital rules, mortgage servicing assets in particular are complex in nature and present liquidity risk and interest rate risk and their value is affected by the credit risk of the underlying serviced assets. Mortgage servicing assets also contribute to the level of an institution's mortgage prepayment exposure. When the level of this exposure rises above a specified benchmark at an individual institution, this exposure may warrant additional attention by examiners between examinations and necessitate greater scrutiny of management's prepayment assumptions in its own interest rate risk model during examinations or visitations.

The components of other real estate owned are needed to monitor asset quality trends at individual institutions and industry-wide, including when coupled with the past due and nonaccrual data for loans secured by the same type of property from Schedule RC-N. The component information may provide insight into the market conditions affecting the segments of the real estate market in the institution's trade area, including possible deteriorating conditions.

Maturity and repricing information on other borrowed money, together with the maturity and repricing information collected in other schedules for other types of assets and liabilities, is needed to evaluate liquidity and interest rate risk to the institution, and to aid in evaluating the strategies institutions take to mitigate these risks. Liquidity and interest rate risk indicators that are calculated by agency models from an institution's Call Report data and exceed specified parameters or change significantly between examinations are red flags that call for timely examiner attention. Data on certain secured liabilities also is used in the assessment of institutions' liquidity positions because increases in the relative volume of secured versus unsecured liabilities may signal that an institution is encountering difficulties in rolling over unsecured borrowings due to deterioration in its condition, which would call for supervisory follow-up when identified between examinations.

Information on mutual funds and annuities, bank Web sites with transactional capability, certain trustee and custodial activities, and captive insurance subsidiaries, is used to identify institutions engaged in these activities, some of which are not typical activities for community banks. If an institution begins to report that it engages in one or more of these activities or reports a significant increase in assets tied to an activity between examinations, this may indicate the need for examiner follow-up to assess the institution's expertise and management of these activities. An institution's involvement in these activities may also affect the staffing and scoping of examinations, particularly for activities for which compliance with applicable laws and regulations must be evaluated during examinations. The reporting of an institution's internet Web sites and trade names supports the FDIC's ability to serve as an information resource for insured institutions by responding to inquiries from the public with the most current information concerning the insured status of the institution behind an internet Web site or a physical branch office that uses a trade name.

For Qualified Thrift Lenders (QTL) subject to 12 U.S.C. 1467a(c), reporting of QTL test information assists the agencies in timely identifying thrift institutions that need to take action to remain in compliance, or that fail to comply and become subject to certain restrictions. International remittance transfers data by type is needed annually to monitor compliance with regulatory requirements (12 CFR 1005.30, et seq). Different types of transfers pose different consumer protection concerns and information of transfer activity aids in the monitoring of the evolution of this market, and how institutions diversify remittance offerings beyond wire transfers.

Schedule RC-R (Regulatory Capital)

Schedule RC-R collects information about an institution's capital. Part I (Regulatory Capital Components and Ratios) collects information about the types and amounts of capital instruments and the leverage and risk-based capital ratios. Part II (Risk-Weighted Assets) collects additional information about types of assets on an institution's balance sheet and certain off-balance sheet items to use in computing the risk-based capital ratios.

The Federal banking agencies are required to establish a leverage limit and risk-based capital requirement for insured depository institutions under 12 U.S.C. 1831o and to monitor compliance with those requirements. The agencies implemented the capital requirements in their regulatory capital rules (12 CFR part 3 for OCC; 12 CFR part 217 for the Board; 12 CFR part 324 for the FDIC) and the compliance requirements in their prompt corrective action rules (12 CFR part 6 for OCC; 12 CFR part 208, subpart D for the Board; 12 CFR 324, subpart H for the FDIC). The capital rules recognize three types of capital instruments: Common Equity Tier 1, Additional Tier 1, and Tier 2 capital. The total of each type on Schedule RC-R, Part I, includes all potential adjustments to each component as allowed under the capital rules. The capital rules also provide for a calculation of risk-weighted assets, which consists of assigning a risk weight to every asset on an institution's balance sheet that is not deducted from capital, as well as to certain off-balance sheet items. Schedule RC-R, Part II, includes all of the fields necessary to properly calculate an institution's risk-weighted asset amount. Finally, the results of the calculation of capital instrument amounts and risk-weighted assets are used to calculate risk-based and leverage capital ratios on Schedule RC-R, Part I. The agencies need to be able to monitor compliance with the capital rules and prompt corrective action provisions no less frequently than quarterly.

In addition to using the resulting capital ratios to determine an institution's status under 12 U.S.C. 1831o and the banking agencies' prompt corrective action regulations, the FFIEC member entities use the regulatory capital information for other purposes. The calculation of Tier 1 capital at quarter-end flows into the amount of average tangible equity for the calendar quarter that institutions report in Schedule RC-O, which is used in the measurement of institutions' assessment bases for deposit insurance purposes. The Tier 1 leverage ratio is one of the inputs into the calculation of deposit insurance assessment rates for small institutions and Tier 1 capital is a commonly used input when calculating these rates for large and highly complex institutions. Capital adequacy is rated in an institution's on-site examination as the C of the CAMELS component ratings, and the information provided on Schedule RC-R helps examiners evaluate and rate that component. It is also used in the off-site monitoring process, and is important in reviewing the risk profile and viability of a financial institution. For example, the ratio of risk-weighted assets to unweighted assets has been found to provide an informative forward-looking signal regarding an institution's risk posture. The information provided on Schedule RC-R also is used in deciding whether to approve an 18-month examination cycle for a specific institution and in reviewing merger applications.

Information on specific sub-components of regulatory capital is useful as well. For example, the amounts of unrealized gains and losses on securities that flow into regulatory capital provide an indication of an institution's interest rate and market risk. Information on the risk weighting of assets and off-balance sheet items provides insight into management's risk tolerance and the institution's risk to the deposit insurance fund. The risk-weighted asset composition information and risk-based capital ratios that flow into the UBPR are helpful to examiners when reviewing Reports of Examination and to establish a peer group average for comparison when evaluating changes in these items. The risk-weighted asset composition information also assists examiners in evaluating the reasons for changes in total risk-weighted assets over time at individual institutions. The derivatives exposure items reported in the Memoranda section of Schedule RC-R, Part II, provide a key insight into the notional principal amounts of both cleared and over-the-counter derivatives in the banking system, in addition to being inputs into the calculation for risk-weighted assets.

Appendix B

FFIEC 051: To Be Completed by Banks With Domestic Offices Only and Total Assets Less Than $1 Billion

Data Items Removed, Other Impacts to Data Items, Reduction in Reporting Frequency, or Increase in Reporting Threshold

Data Items Removed
Schedule | Item | Item name | MDRM No.
RI | 5.d.(1) | Fees and commissions from securities brokerage | RIADC886
RI | 5.d.(2) | Investment banking, advisory, and underwriting fees and commissions. Note: Items 5.d.(1) and 5.d.(2) of Schedule RI will be combined into one data item | RIADC888
RI | 5.d.(3) | Fees and commissions from annuity sales | RIADC887
RI | 5.d.(4) | Underwriting income from insurance and reinsurance activities | RIADC386
RI | 5.d.(5) | Income from other insurance activities. Note: Items 5.d.(3), 5.d.(4), and 5.d.(5) of Schedule RI will be combined into one data item | RIADC387
RI | 5.g | Net securitization income | RIADB493
RI | M1 | Interest expense incurred to carry tax-exempt securities, loans, and leases acquired after August 7, 1986, that is not deductible for federal income tax purposes | RIAD4513
RI-B, Part II | M4 | Amount of allowance for post-acquisition credit losses on purchased credit-impaired loans accounted for in accordance with FASB ASC 310-30 (former AICPA Statement of Position 03-3) | RIADC781
RI-E | 1.f | Net change in the fair values of financial instruments accounted for under a fair value option | RIADF229
RI-E | 1.h | Gains on bargain purchases | RIADJ447
RC | 10.a | Goodwill. Note: Schedule RC, item 10.a will be moved to Schedule RC-M, new item 2.b | RCON3163
RC | 10.b | Other intangible assets (from Schedule RC-M). Note: Items 10.a and 10.b of Schedule RC will be combined into one data item | RCON0426
RC-B | 2.a | U.S. Government agency obligations (exclude mortgage-backed securities): Issued by U.S. Government agencies (Columns A through D) | RCON1289, RCON1290, RCON1291, RCON1293
RC-B | 2.b | U.S. Government agency obligations (exclude mortgage-backed securities): Issued by U.S. Government-sponsored agencies (Columns A through D). Note: Items 2.a and 2.b of Schedule RC-B will be combined into one data item (Columns A through D) | RCON1294, RCON1295, RCON1297, RCON1298
RC-B | 5.b.(1) | Structured financial products: Cash (Columns A through D) | RCONG336, RCONG337, RCONG338, RCONG339
RC-B | 5.b.(2) | Structured financial products: Synthetic (Columns A through D) | RCONG340, RCONG341, RCONG342, RCONG343
RC-B | 5.b.(3) | Structured financial products: Hybrid (Columns A through D). Note: Items 5.b.(1), 5.b.(2), and 5.b.(3) of Schedule RC-B will be combined into one line item (Columns A through D) | RCONG344, RCONG345, RCONG346, RCONG347
RC-B | M6.a | Structured financial products by underlying collateral or reference assets: Trust preferred securities issued by financial institutions (Columns A through D) | RCONG348, RCONG349, RCONG350, RCONG351
RC-B | M6.b | Structured financial products by underlying collateral or reference assets: Trust preferred securities issued by real estate investment trusts (Columns A through D) | RCONG352, RCONG353, RCONG354, RCONG355
RC-B | M6.c | Structured financial products by underlying collateral or reference assets: Corporate and similar loans (Columns A through D) | RCONG356, RCONG357, RCONG358, RCONG359
RC-B | M6.d | Structured financial products by underlying collateral or reference assets: 1-4 family residential MBS issued or guaranteed by U.S. Government-sponsored enterprises (GSEs) (Columns A through D) | RCONG360, RCONG361, RCONG362, RCONG363
RC-B | M6.e | Structured financial products by underlying collateral or reference assets: 1-4 family residential MBS not issued or guaranteed by GSEs (Columns A through D) | RCONG364, RCONG365, RCONG366, RCONG367
RC-B | M6.f | Structured financial products by underlying collateral or reference assets: Diversified (mixed) pools of structured financial products (Columns A through D) | RCONG368, RCONG369, RCONG370, RCONG371
RC-B | M6.g | Structured financial products by underlying collateral or reference assets: Other collateral or reference assets (Columns A through D) | RCONG372, RCONG373, RCONG374, RCONG375
RC-K | 7 | Trading assets | RCON3401
RC-L | 1.b.(1) | Unused consumer credit card lines | RCONJ455
RC-L | 1.b.(2) | Other unused credit card lines | RCONJ456
RC-L | 1.d | Unused commitments: Securities underwriting | RCON3817
RC-M | 2.b | Purchased credit card relationships and nonmortgage servicing assets. Note: Amounts reported in item 2.b will be included in item 2.c, All other identifiable intangible assets | RCONB026
RC-M | 3.f | Foreclosed properties from “GNMA loans”. Note: Amounts reported in item 3.f will be included in item 3.c, Other real estate owned: 1-4 family residential properties | RCONC979

Other Impacts to Data Items
Schedule | Item | Item name | MDRM No.
RI | 5.d.(1) (New) | Fees and commissions from securities brokerage, investment banking, advisory, and underwriting activities. Note: Items 5.d.(1) and 5.d.(2) of Schedule RI removed above will be combined into this data item | To be determined (TBD)
RI | 5.d.(2) (New) | Income from other insurance activities (includes underwriting income from insurance and reinsurance activities). Note: Items 5.d.(3), 5.d.(4), and 5.d.(5) of Schedule RI removed above will be combined into this data item | TBD
RC | 10 (New) | Intangible assets (from Schedule RC-M). Note: Items 10.a and 10.b of Schedule RC removed above will be combined into this data item | RCON2143
RC-B | 2 (New) | U.S. Government agency obligations (exclude mortgage-backed securities (Columns A through D). Note: Items 2.a and 2.b of Schedule RC-B removed above will be combined into this data item (Columns A through D) | TBD (4 MDRMs)
RC-B | 5.b (New) | Structured financial products (Columns A through D). Note: Items 5.b.(1), 5.b.(2), and 5.b.(3) of Schedule RC-B removed above will be combined into this line item (Columns A through D) | TBD (4 MDRMs)
RC-M | 2.b (Re-mapping) | Goodwill. Note: Schedule RC, item 10.a will be moved to Schedule RC-M, new item 2.b., and the phrase “other than goodwill” will be removed from the caption for Schedule RC-M, item 2 | RCON3163

Data Items With a Reduction in Frequency of Collection
Semiannual Reporting (June 30 and December 31)
Schedule | Item | Item name | MDRM No.
RC-B | M3 | Amortized cost of held-to-maturity securities sold or transferred to available-for-sale or trading securities during the calendar year-to-date | RCON1778
RC-C, Part I | M7.a | Purchased credit-impaired loans held for investment accounted for in accordance with FASB ASC 310-30: Outstanding balance | RCONC779
RC-C, Part I | M7.b | Purchased credit-impaired loans held for investment accounted for in accordance with FASB ASC 310-30: Amount included in Schedule RC-C, Part I, items 1 through 9 | RCONC780
RC-C, Part I | M8.a | Total amount of closed-end loans with negative amortization features secured by 1-4 family residential properties | RCONF230
RC-C, Part I | M12 | Loans (not subject to the requirements of FASB ASC 310-30 (former AICPA Statement of Position 03-3)) and leases held for investment that were acquired in business combinations with acquisition dates in the current calendar year (Columns A through C) | RCONGW45, RCONGW46, RCONGW47
RC-L | 11.a | Year-to-date merchant credit card sales volume: Sales for which the reporting bank is the acquiring bank | RCONC223
RC-L | 11.b | Year-to-date merchant credit card sales volume: Sales for which the reporting bank is the agent bank with risk | RCONC224
RC-N | M7 | Additions to nonaccrual assets during the quarter. Note: This caption would be revised to “Additions to nonaccrual assets during the last 6 months” | RCONC410
RC-N | M8 | Nonaccrual assets sold during the quarter. Note: This caption would be revised to “Nonaccrual assets sold during the last 6 months” | RCONC411
RC-N | M9.a | Purchased credit-impaired loans accounted for in accordance with FASB ASC 310-30 (former AICPA Statement of Position 03-3): Outstanding balance (Columns A through C) | RCONL183, RCONL184, RCONL185
RC-N | M9.b | Purchased credit-impaired loans accounted for in accordance with FASB ASC 310-30 (former AICPA Statement of Position 03-3): Amount included in Schedule RC-N, items 1 through 7, above (Columns A through C) | RCONL186, RCONL187, RCONL188

Annual Reporting (December 31)
Schedule | Item | Item name | MDRM No.
RI-E | 1.a through 1.l | Other noninterest income (from Schedule RI, item 5.l) | RIADC013, RIADC014, RIADC016, RIAD4042, RIADC015, RIADF555, RIADT047, RIAD4461, RIAD4462, RIAD4463
RI-E | 2.a through 2.p | Other noninterest expense (from Schedule RI, item 7.d) | RIADC017, RIAD0497, RIAD4136, RIADC018, RIAD8403, RIAD4141, RIAD4146, RIADF556, RIADF557, RIADF558, RIADF559, RIADY923, RIADY924, RIAD4464, RIAD4467, RIAD4468

Data Items With an Increase in Reporting Threshold
Schedule | Item | Item name | MDRM No.
To be completed by banks with components of other noninterest income in amounts greater than $100,000 that exceed 7 percent of Schedule RI, item 5.l
RI-E | 1.a through 1.l | Other noninterest income (from Schedule RI, item 5.l) | RIADC013, RIADC014, RIADC016, RIAD4042, RIADC015, RIADF555, RIADT047, RIAD4461, RIAD4462, RIAD4463
To be completed by banks with components of other noninterest expense in amounts greater than $100,000 that exceed 7 percent of Schedule RI, item 7.d
RI-E | 2.a through 2.p | Other noninterest expense (from Schedule RI, item 7.d) | RIADC017, RIAD0497, RIAD4136, RIADC018, RIAD8403, RIAD4141, RIAD4146, RIADF556, RIADF557, RIADF558, RIADF559, RIADY923, RIADY924, RIAD4464, RIAD4467, RIAD4468

Appendix C

FFIEC 041: To Be Completed by Banks With Domestic Offices Only and Consolidated Total Assets Less Than $100 Billion

Data Items Removed, Other Impacts to Data Items, Reduction in Reporting Frequency, or Increase in Reporting Threshold

Data Items Removed
Schedule | Item | Item name | MDRM No.
RI | M8.a | Trading revenue from interest rate exposures | RIAD8757
RI | M8.b | Trading revenue from foreign exchange exposures | RIAD8758
RI | M8.c | Trading revenue from equity security and index exposures | RIAD8759
RI | M8.d | Trading revenue from commodity and other exposures | RIAD8760
RI | M8.e | Trading revenue from credit exposures | RIADF186
RI | M8.f.(1) | Impact on trading revenue of changes in the creditworthiness of the bank's derivatives counterparties on the bank's derivative assets: Gross credit valuation adjustment (CVA) | RIADFT36
RI | M8.f.(2) | Impact on trading revenue of changes in the creditworthiness of the bank's derivatives counterparties on the bank's derivative assets: CVA hedge | RIADFT37
RI | M8.g.(1) | Impact on trading revenue of changes in the creditworthiness of the bank on the bank's derivative liabilities: Gross debit valuation adjustment (DVA) | RIADFT38
RI | M8.g.(2) | Impact on trading revenue of changes in the creditworthiness of the bank on the bank's derivative liabilities: DVA hedge | RIADFT39
RI | M8.h | Gross trading revenue before including positive or negative net CVA and net DVA | RIADFT40
RI-E | 1.f | Net change in the fair values of financial instruments accounted for under a fair value option | RIADF229
RI-E | 1.h | Gains on bargain purchases | RIADJ447
RC | 10.a | Goodwill. Note: Schedule RC, item 10.a will be moved to Schedule RC-M, new item 2.b | RCON3163
RC | 10.b | Other intangible assets (from Schedule RC-M). Note: Items 10.a and 10.b of Schedule RC will be combined into one data item | RCON0426
RC-B | 2.a | U.S. Government agency obligations (exclude mortgage-backed securities): Issued by U.S. Government agencies (Columns A through D) | RCON1289, RCON1290, RCON1291, RCON1293
RC-B | 2.b | U.S. Government agency obligations (exclude mortgage-backed securities): Issued by U.S. Government-sponsored agencies (Columns A through D). Note: Items 2.a and 2.b of Schedule RC-B will be combined into one data item (Columns A through D) | RCON1294, RCON1295, RCON1297, RCON1298
RC-B | 5.b.(1) | Structured financial products: Cash (Columns A through D) | RCONG336, RCONG337, RCONG338, RCONG339
RC-B | 5.b.(2) | Structured financial products: Synthetic (Columns A through D) | RCONG340, RCONG341, RCONG342, RCONG343
RC-B | 5.b.(3) | Structured financial products: Hybrid (Columns A through D) Note: Items 5.b.(1), 5.b.(2), and 5.b.(3) of Schedule RC-B will be combined into one data item | RCONG344, RCONG345, RCONG346, RCONG347
RC-D | 5.a.(1) | Structured financial products: Cash | RCONG383
RC-D | 5.a.(2) | Structured financial products: Synthetic | RCONG384
RC-D | 5.a.(3) | Structured financial products: Hybrid. Note: Items 5.a.(1), 5.a.(2), and 5.a.(3) of Schedule RC-D will be combined into one data item | RCONG385
RC-D | 6.a.(1) | Construction, land development, and other land loans | RCONF604
RC-D | 6.a.(2) | Loans secured by farmland | RCONF605
RC-D | 6.a.(3)(a) | Revolving, open-end loans secured by 1-4 family residential properties and extended under lines of credit | RCONF606
RC-D | 6.a.(3)(b)(1) | Closed-end loans secured by 1-4 family residential properties: Secured by first liens | RCONF607
RC-D | 6.a.(3)(b)(2) | Closed-end loans secured by 1-4 family residential properties: Secured by junior liens | RCONF611
RC-D | 6.a.(4) | Loans secured by multifamily (5 or more) residential properties | RCONF612
RC-D | 6.a.(5) | Loans secured by nonfarm nonresidential properties. Note: Items 6.a.(1), 6.a.(2), 6.a.(3)(a), 6.a.(3)(b)(1), 6.a.(3)(b)(2), 6.a.(4), and 6.a.(5) of Schedule RC-D will be replaced by two data items: (1) Loans secured by 1-4 family residential properties, and (2) All other loans secured by real estate | RCONF613
RC-D | 6.c.(1) | Loans to individuals for household, family, and other personal expenditures: Credit cards | RCONF615
RC-D | 6.c.(2) | Loans to individuals for household, family, and other personal expenditures: Other revolving credit plans | RCONF616
RC-D | 6.c.(3) | Loans to individuals for household, family, and other personal expenditures: Automobile loans | RCONK199
RC-D | 6.c.(4) | Loans to individuals for household, family, and other personal expenditures: Other consumer loans. Note: Items 6.c.(1), 6.c.(2), 6.c.(3), and 6.c.(4) of Schedule RC-D will be combined into one data item | RCONK210
RC-D | M1.a.(1) | Unpaid principal balance of loans measured at fair value: Construction, land development, and other land loans | RCONF625
RC-D | M1.a.(2) | Unpaid principal balance of loans measured at fair value: Loans secured by farmland | RCONF626
RC-D | M1.a.(3)(a) | Unpaid principal balance of loans measured at fair value: Revolving, open-end loans secured by 1-4 family residential properties and extended under lines of credit | RCONF627
RC-D | M1.a.(3)(b)(1) | Unpaid principal balance of loans measured at fair value: Closed-end loans secured by 1-4 family residential properties: Secured by first liens | RCONF628
RC-D | M1.a.(3)(b)(2) | Unpaid principal balance of loans measured at fair value: Closed-end loans secured by 1-4 family residential properties: Secured by junior liens | RCONF629
RC-D | M1.a.(4) | Unpaid principal balance of loans measured at fair value: Loans secured by multifamily (5 or more) residential properties | RCONF630
RC-D | M1.a.(5) | Unpaid principal balance of loans measured at fair value: Loans secured by nonfarm nonresidential properties. Note: Items M1.a.(1), M1.a.(2), M1.a.(3)(a), M1.a.(3)(b)(1), M1.a.(3)(b)(2), M1.a.(4), and M1.a.(5) of Schedule RC-D will be replaced by two data items: (1) Unpaid principal balance of loans measured at fair value: Loans secured by 1-4 family residential properties, and (2) Unpaid principal balance of loans measured at fair value: All other loans secured by real estate | RCONF631
RC-D | M1.c.(1) | Unpaid principal balance of loans measured at fair value: Loans to individuals for household, family, and other personal expenditures: Credit cards | RCONF633
RC-D | M1.c.(2) | Unpaid principal balance of loans measured at fair value: Loans to individuals for household, family, and other personal expenditures: Other revolving credit plans | RCONF634
RC-D | M1.c.(3) | Unpaid principal balance of loans measured at fair value: Loans to individuals for household, family, and other personal expenditures: Automobile loans | RCONK200
RC-D | M1.c.(4) | Unpaid principal balance of loans measured at fair value: Loans to individuals for household, family, and other personal expenditures: Other consumer loans. Note: Items M1.c.(1), M1.c.(2), M1.c.(3), and M1.c.(4) of Schedule RC-D will be combined into one data item | RCONK211
RC-D | M2.a | Loans measured at fair value that are past due 90 days or more: Fair value | RCONF639
RC-D | M2.b | Loans measured at fair value that are past due 90 days or more: Unpaid principal balance | RCONF640
RC-D | M3.a | Structured financial products by underlying collateral or reference assets: Trust preferred securities issued by financial institutions | RCONG299
RC-D | M3.b | Structured financial products by underlying collateral or reference assets: Trust preferred securities issued by real estate investment trusts | RCONG332
RC-D | M3.c | Structured financial products by underlying collateral or reference assets: Corporate and similar loans | RCONG333
RC-D | M3.d | Structured financial products by underlying collateral or reference assets: 1-4 family residential MBS issued or guaranteed by U.S. Government-sponsored enterprises (GSEs) | RCONG334
RC-D | M3.e | Structured financial products by underlying collateral or reference assets: 1-4 family residential MBS not issued or guaranteed by GSEs | RCONG335
RC-D | M3.f | Structured financial products by underlying collateral or reference assets: Diversified (mixed) pools of structured financial products | RCONG651
RC-D | M3.g | Structured financial products by underlying collateral or reference assets: Other collateral or reference assets | RCONG652
RC-D | M4.a | Pledged trading assets: Pledged securities | RCONG387
RC-D | M4.b | Pledged trading assets: Pledged loans | RCONG388
RC-D | M5.a | Asset-backed securities: Credit card receivables | RCONF643
RC-D | M5.b | Asset-backed securities: Home equity lines | RCONF644
RC-D | M5.c | Asset-backed securities: Automobile loans | RCONF645
RC-D | M5.d | Asset-backed securities: Other consumer loans | RCONF646
RC-D | M5.e | Asset-backed securities: Commercial and industrial loans | RCONF647
RC-D | M5.f | Asset-backed securities: Other | RCONF648
RC-D | M6 | Retained beneficial interests in securitizations | RCONF651
RC-D | M7.a | Equity securities: Readily determinable fair values | RCONF652
RC-D | M7.b | Equity securities: Other | RCONF653
RC-D | M8 | Loans pending securitization | RCONF654
RC-D | M9 | Other trading assets | RCONF655, RCONF656, RCONF657
RC-D | M10 | Other trading liabilities | RCONF658, RCONF659, RCONF660
RC-L | 1.a.(1) | Unused commitments for Home Equity Conversion Mortgage (HECM) reverse mortgages outstanding that are held for investment | RCONJ477
RC-L | 1.a.(2) | Unused commitments for proprietary reverse mortgages outstanding that are held for investment. Note: Items 1.a.(1) and 1.a.(2) of Schedule RC-L will be combined into one data item | RCONJ478
RC-L | 8 | Spot foreign exchange contracts | RCON8765
RC-L | 16.a | Over-the-counter derivatives: Net current credit exposure (Columns B, C, and D) | RCONG419, RCONG420, RCONG421
RC-L | 16.b.(1) | Over-the-counter derivatives: Fair value of collateral: Cash—U.S. dollar (Columns B, C, and D) | RCONG424, RCONG425, RCONG426
RC-L | 16.b.(2) | Over-the-counter derivatives: Fair value of collateral: Cash—Other currencies (Columns B, C, and D) | RCONG429, RCONG430, RCONG431
RC-L | 16.b.(3) | Over-the-counter derivatives: Fair value of collateral: U.S. Treasury securities (Columns B, C, and D) | RCONG434, RCONG435, RCONG436
RC-L | 16.b.(4) | Over-the-counter derivatives: Fair value of collateral: U.S. Government agency and U.S. Government-sponsored agency debt securities (Columns A, B, C, D, and E) | RCONG438, RCONG439, RCONG440, RCONG441, RCONG442
RC-L | 16.b.(5) | Over-the-counter derivatives: Fair value of collateral: Corporate bonds (Columns A, B, C, D, and E) | RCONG443, RCONG444, RCONG445, RCONG446, RCONG447
RC-L | 16.b.(6) | Over-the-counter derivatives: Fair value of collateral: Equity securities (Columns A, B, C, D, and E) | RCONG448, RCONG449, RCONG450, RCONG451, RCONG452
RC-L | 16.b.(7) | Over-the-counter derivatives: Fair value of collateral: All other collateral (Columns B, C, and D). Note: Amounts reported in items 16.b.(4), 16.b.(5), and 16.b.(6), Columns A and E, will be included in item 16.b.(7), Columns A and E | RCONG454, RCONG455, RCONG456
RC-L | 16.b.(8) | Over-the-counter derivatives: Fair value of collateral: Total fair value of collateral (Columns B, C, and D). Note: Amounts reported in items 16.a, 16.b.(1), 16.b.(2), 16.b.(3), 16.b.(4), 16.b.(5), 16.b.(6), and 16.b.(7), Columns B, C, and D, will be included in items 16.a, 16.b.(1), 16.b.(2), 16.b.(3), and 16.b.(7), Column E | RCONG459, RCONG460, RCONG461
RC-M | 2.b | Purchased credit card relationships and nonmortgage servicing assets. Note: Amounts reported in item 2.b will be included in item 2.c, All other identifiable intangible assets | RCONB026
RC-M | 3.f | Foreclosed properties from “GNMA loans.” Note: Amounts reported in item 3.f will be included in item 3.c, Other real estate owned: 1-4 family residential properties | RCONC979

Other Impacts to Data Items
Schedule | Item | Item name | MDRM No.
RC | 10 (New) | Intangible assets. Note: Items 10.a and 10.b of Schedule RC will be combined into this data item | RCON2143
RC-B | 2 (New) | U.S. Government agency obligations (exclude mortgage-backed securities (Columns A through D). Note: Items 2.a and 2.b of Schedule RC-B removed above will be combined into this data item (Columns A through D) | To be determined (TBD) (4 MDRMs)
RC-B | 5.b (New) | Structured financial products (Columns A through D). Note: Items 5.b.(1), 5.b.(2), and 5.b.(3) of Schedule RC-B removed above will be combined into this data item (Columns A through D) | TBD (4 MDRMs)
RC-D | 5.a (New) | Structured financial products. Note: Items 5.a.(1), 5.a.(2), and 5.a.(3) of Schedule RC-D removed above will be combined into this data item | TBD
RC-D | 6.a.(1) (New) | Loans secured by 1-4 family residential properties. Note: Items 6.a.(3)(a), 6.a.(3)(b)(1), and 6.a.(3)(b)(2) of Schedule RC-D removed above will be combined into this data item | TBD
RC-D | 6.a.(2) (New) | All other loans secured by real estate. Note: Items 6.a.(1), 6.a.(2), 6.a.(4), and 6.a.(5) of Schedule RC-D removed above will be combined into this data item | TBD
RC-D | 6.c (New) | Loans to individuals for household, family and other personal expenditures (i.e., consumer loans) (includes purchased paper). Note: Items 6.c.(1), 6.c.(2), 6.c.(3), and 6.c.(4) of Schedule RC-D removed above will be combined into this data item | TBD
RC-D | M1.a.(1) (New) | Unpaid principal balance of loans measured at fair value: Loans secured by 1-4 family residential properties. Note: Items M1.a.(3)(a), M1.a.(3)(b)(1), and M1.a.(3)(b)(2) of Schedule RC-D removed above will be combined into this data item | TBD
RC-D | M1.a.(2) (New) | Unpaid principal balance of loans measured at fair value: All other loans secured by real estate. Note: Items M1.a.(1), M1.a.(2), M1.a.(4), and M1.a.(5) of Schedule RC-D removed above will be combined into this data item | TBD
RC-D | M1.c (New) | Unpaid principal balance of loans measured at fair value: Loans to individuals for household, family, and other personal expenditures. Note: Items M1.c.(1), M1.c.(2), M1.c.(3), and M1.c.(4) of Schedule RC-D removed above will be combined into this data item | TBD
RC-L | 1.a.(1) (New) | Unused commitments for reverse mortgages outstanding that are held for investment. Note: Items 1.a.(1) and 1.a.(2) of Schedule RC-L removed above will be combined into this data item | TBD
RC-M | 2.b (Re-mapping) | Goodwill. Note: Schedule RC, item 10.a will be moved to Schedule RC-M, new item 2.b., and the phrase “other than goodwill” will be removed from the caption for Schedule RC-M, item 2 | RCON3163

Data Items With a Reduction in Frequency of Collection
Semiannual Reporting (June 30 and December 31)
Schedule | Item | Item name | MDRM No.
RI | M12 | Noncash income from negative amortization on closed-end loans secured by 1-4 family residential properties | RIADF228
RC-B | M3 | Amortized cost of held-to-maturity securities sold or transferred to available-for-sale or trading securities during the calendar year-to-date | RCON1778
RC-C, Part I | M7.a | Purchased credit-impaired loans held for investment accounted for in accordance with FASB ASC 310-30: Outstanding balance | RCONC779
RC-C, Part I | M7.b | Purchased credit-impaired loans held for investment accounted for in accordance with FASB ASC 310-30: Amount included in Schedule RC-C, Part I, items 1 through 9 | RCONC780
RC-C, Part I | M8.a | Total amount of closed-end loans with negative amortization features secured by 1-4 family residential properties | RCONF230
RC-C, Part I | M8.b | Total maximum remaining amount of negative amortization contractually permitted on closed-end loans secured by 1-4 family residential properties | RCONF231
RC-C, Part I | M8.c | Total amount of negative amortization on closed-end loans secured by 1-4 family residential properties included in the amount reported in Memorandum item 8.a above | RCONF232
RC-C, Part I | M12.a | Loans (not subject to the requirements of FASB ASC 310-30 (former AICPA Statement of Position 03-3)) and leases held for investment that were acquired in business combinations with acquisition dates in the current calendar year: Loans secured by real estate (Columns A through C) | RCONG091, RCONG092, RCONG093
RC-C, Part I | M12.b | Loans (not subject to the requirements of FASB ASC 310-30 (former AICPA Statement of Position 03-3)) and leases held for investment that were acquired in business combinations with acquisition dates in the current calendar year: Commercial and industrial loans (Columns A through C) | RCONG094, RCONG095, RCONG096
RC-C, Part I | M12.c | Loans (not subject to the requirements of FASB ASC 310-30 (former AICPA Statement of Position 03-3)) and leases held for investment that were acquired in business combinations with acquisition dates in the current calendar year: Loans to individuals for household, family, and other personal expenditures (Columns A through C) | RCONG097, RCONG098, RCONG099
RC-C, Part I | M12.d | Loans (not subject to the requirements of FASB ASC 310-30 (former AICPA Statement of Position 03-3)) and leases held for investment that were acquired in business combinations with acquisition dates in the current calendar year: All other loans and all leases (Columns A through C) | RCONG100, RCONG101, RCONG102
RC-L | 1.b.(1) | Unused consumer credit card lines | RCONJ455
RC-L | 1.b.(2) | Other unused credit card lines | RCONJ456
RC-L | 11.a | Year-to-date merchant credit card sales volume: Sales for which the reporting bank is the acquiring bank | RCONC223
RC-L | 11.b | Year-to-date merchant credit card sales volume: Sales for which the reporting bank is the agent bank with risk | RCONC224
RC-N | M7 | Additions to nonaccrual assets during the quarter. Note: This caption would be revised to “Additions to nonaccrual assets during the last 6 months.” | RCONC410
RC-N | M8 | Nonaccrual assets sold during the quarter. Note: This caption would be revised to ”Nonaccrual assets sold during the last 6 months” | RCONC411
RC-N | M9.a | Purchased credit-impaired loans accounted for in accordance with FASB ASC 310-30 (former AICPA Statement of Position 03-3): Outstanding balance (Columns A through C) | RCONL183, RCONL184, RCONL185
RC-N | M9.b | Purchased credit-impaired loans accounted for in accordance with FASB ASC 310-30 (former AICPA Statement of Position 03-3): Amount included in Schedule RC-N, items 1 through 7, above (Columns A through C) | RCONL186, RCONL187, RCONL188

Annual Reporting (December)
Schedule | Item | Item name | MDRM No.
RC-M | 9 | Do any of the bank's Internet websites have transactional capability, i.e., allow the bank's customers to execute transactions on their accounts through the website? | RCON4088
RC-M | 14.a | Total assets of captive insurance subsidiaries | RCONK193
RC-M | 14.b | Total assets of captive reinsurance subsidiaries | RCONK194

Data Items With an Increase in Reporting Threshold
[Schedule RC-D is to be completed by banks that reported total trading assets of $10 million or more in any of the four preceding calendar quarters and all banks meeting the FDIC's definition of a large or highly complex institution for deposit insurance assessment purposes.]
Schedule | Item | Item name | MDRM No.
To be completed by banks with $10 billion or more in total assets
RC-B | M5.a | Asset-backed securities: Credit card receivables (Columns A, B, C, and D) | RCONB838, RCONB839, RCONB840, RCONB841
RC-B | M5.b | Asset-backed securities: Home equity lines (Columns A, B, C, and D) | RCONB842, RCONB843, RCONB844, RCONB845
RC-B | M5.c | Asset-backed securities: Automobile loans (Columns A, B, C, and D) | RCONB846, RCONB847, RCONB848, RCONB849
RC-B | M5.d | Asset-backed securities: Other consumer loans (Columns A, B, C, and D) | RCONB850, RCONB851, RCONB852, RCONB853
RC-B | M5.e | Asset-backed securities: Commercial and industrial loans (Columns A, B, C, and D) | RCONB854, RCONB855, RCONB856, RCONB857
RC-B | M5.f | Asset-backed securities: Other (Columns A, B, C, and D) | RCONB858, RCONB859, RCONB860, RCONB861
RC-B | M6.a | Structured financial products by underlying collateral or reference assets: Trust preferred securities issued by financial institutions (Columns A through D) | RCONG348, RCONG349, RCONG350, RCONG351
RC-B | M6.b | Structured financial products by underlying collateral or reference assets: Trust preferred securities issued by real estate investment trusts (Columns A through D) | RCONG352, RCONG353, RCONG354, RCONG355
RC-B | M6.c | Structured financial products by underlying collateral or reference assets: Corporate and similar loans (Columns A through D) | RCONG356, RCONG357, RCONG358, RCONG359
RC-B | M6.d | Structured financial products by underlying collateral or reference assets: 1-4 family residential MBS issued or guaranteed by U.S. Government-sponsored enterprises (GSEs) (Columns A through D) | RCONG360, RCONG361, RCONG362, RCONG363
RC-B | M6.e | Structured financial products by underlying collateral or reference assets: 1-4 family residential MBS not issued or guaranteed by GSEs (Columns A through D) | RCONG364, RCONG365, RCONG366, RCONG367
RC-B | M6.f | Structured financial products by underlying collateral or reference assets: Diversified (mixed) pools of structured financial products (Columns A through D) | RCONG368, RCONG369, RCONG370, RCONG371
RC-B | M6.g | Structured financial products by underlying collateral or reference assets: Other collateral or reference assets (Columns A through D) | RCONG372, RCONG373, RCONG374, RCONG375
To be completed by banks with components of other noninterest income in amounts greater than $100,000 that exceed 7 percent of Schedule RI, item 5.l
RI-E | 1.a through 1.l | Other noninterest income (from Schedule RI, item 5.l) | RIADC013, RIADC014, RIADC016, RIAD4042, RIADC015, RIADF555, RIADT047, RIAD4461, RIAD4462, RIAD4463
To be completed by banks with components of other noninterest expense in amounts greater than $100,000 that exceed 7 percent of Schedule RI, item 7.d
RI-E | 2.a through 2.p | Other noninterest expense (from Schedule RI, item 7.d) | RIADC017, RIAD0497, RIAD4136, RIADC018, RIAD8403, RIAD4141, RIAD4146, RIADF556, RIADF557, RIADF558, RIADF559, RIADY923, RIADY924, RIAD4464, RIAD4467, RIAD4468
To be completed by banks with total trading assets of $10 million or more in any of the four preceding calendar quarters and all banks meeting the FDIC's definition of a large or highly complex institution for deposit insurance assessment purposes.
RC-K | 7 | Trading assets | RCON3401

Appendix D

FFIEC 031: To Be Completed by Banks With Domestic and Foreign Offices and Banks With Domestic Offices Only and Consolidated Total Assets of $100 Billion or More

Data Items Removed, Other Impacts to Data Items, Reduction in Reporting Frequency, or Increase in Reporting Threshold

Data Items Removed
Schedule | Item | Item name | MDRM No.
RI-E | 1.f | Net change in the fair values of financial instruments accounted for under a fair value option | RIADF229
RI-E | 1.h | Gains on bargain purchases | RIADJ447
RC | 10.a | Goodwill. Note: Schedule RC, item 10.a will be moved to Schedule RC-M, new item 2.b | RCFD3163
RC | 10.b | Other intangible assets. Note: Items 10.a and 10.b of Schedule RC will be combined into one data item | RCFD0426
RC-B | 2.a | U.S. Government agency obligations (exclude mortgage-backed securities): Issued by U.S. Government agencies (Columns A through D) | RCFD1289, RCFD1290, RCFD1291, RCFD1293
RC-B | 2.b | U.S. Government agency obligations (exclude mortgage-backed securities): Issued by U.S. Government-sponsored agencies (Columns A through D). Note: Items 2.a and 2.b of Schedule RC-B will be combined into one data item | RCFD1294, RCFD1295, RCFD1297, RCFD1298
RC-B | 5.b.(1) | Structured financial products: Cash (Columns A through D) | RCFDG336, RCFDG337, RCFDG338, RCFDG339
RC-B | 5.b.(2) | Structured financial products: Synthetic (Columns A through D) | RCFDG340, RCFDG341, RCFDG342, RCFDG343
RC-B | 5.b.(3) | Structured financial products: Hybrid (Columns A through D). Note: Items 5.b.(1), 5.b.(2), and 5.b.(3) of Schedule RC-B will be combined into one data item | RCFDG344, RCFDG345, RCFDG346, RCFDG347
RC-D | All data items reported in Column B, “Domestic offices” | Column B, “Domestic offices.” Note: Data items 6.a.(1) through 6.a.(5), Column B, will be combined into two data items to be collected for the consolidated bank in Column A, which will replace data item 6.a, Column A. In addition, data items M1.a.(1) through M1.a.(5), Column B, will be combined into two data items to be collected for the consolidated bank in Column A, which will replace data item M.1.a, Column A. Data items 12 and 15, Column B, will be moved to Schedule RC-H, new items 19 and 20. Data items 6.a.(1) through 6.d, Column B, will be combined into one data item and moved to Schedule RC-H, new item 21 | RCON3531, RCON3532, RCON3533, RCONG379, RCONG380, RCONG381, RCONK197, RCONK198, RCONG383, RCONG384, RCONG385, RCONG386, RCONF604, RCONF605, RCONF606, RCONF607, RCONF611, RCONF612, RCONF613, RCONF614, RCONF615, RCONF616, RCONK199, RCONK210, RCONF618, RCON3541, RCON3543, RCON3545, RCON3546, RCONF624, RCON3547, RCON3548, RCONF625, RCONF626, RCONF627, RCONF628, RCONF629, RCONF630, RCONF631, RCONF632, RCONF633, RCONF634, RCONK200, RCONK211, RCONF636, RCONF639, RCONF640, RCONG299, RCONG332, RCONG333, RCONG334, RCONG335, RCONG651, RCONG652, RCONG387, RCONG388
RC-D | 5.a.(1) | Structured financial products: Cash (Column A) | RCFDG383
RC-D | 5.a.(2) | Structured financial products: Synthetic (Column A) | RCFDG384
RC-D | 5.a.(3) | Structured financial products: Hybrid (Column A). Note: Items 5.a.(1), 5.a.(2), and 5.a.(3) of Schedule RC-D, Column A, will be combined into one data item | RCFDG385
RC-D | 6.a | Loans secured by real estate (Column A) | RCFDF610
RC-D | 6.c.(1) | Loans to individuals for household, family, and other personal expenditures: Credit cards (Column A) | RCFDF615
RC-D | 6.c.(2) | Loans to individuals for household, family, and other personal expenditures: Other revolving credit plans (Column A) | RCFDF616
RC-D | 6.c.(3) | Loans to individuals for household, family, and other personal expenditures: Automobile loans (Column A) | RCFDK199
RC-D | 6.c.(4) | Loans to individuals for household, family, and other personal expenditures: Other consumer loans. Note: Items 6.c.(1), 6.c.(2), 6.c.(3), and 6.c.(4) of Schedule RC-D, Column A, will be combined into one data item | RCFDK210
RC-D | M1.a | Unpaid principal balance of loans measured at fair value: Loans secured by real estate (Column A) | RCFDF790
RC-D | M1.c.(1) | Unpaid principal balance of loans measured at fair value: Loans to individuals for household, family, and other personal expenditures: Credit cards (Column A) | RCFDF633
RC-D | M1.c.(2) | Unpaid principal balance of loans measured at fair value: Loans to individuals for household, family, and other personal expenditures: Other revolving credit plans (Column A) | RCFDF634
RC-D | M1.c.(3) | Unpaid principal balance of loans measured at fair value: Loans to individuals for household, family, and other personal expenditures: Automobile loans (Column A) | RCFDK200
RC-D | M1.c.(4) | Unpaid principal balance of loans measured at fair value: Loans to individuals for household, family, and other personal expenditures: Other consumer loans (Column A). Note: Items M1.c.(1), M1.c.(2), M1.c.(3), and M1.c.(4) of Schedule RC-D, Column A, will be combined into one data item | RCFDK211
RC-D | M6 | Retained beneficial interests in securitizations | RCFDF651
RC-L | 1.a.(1) | Unused commitments for Home Equity Conversion Mortgage (HECM) reverse mortgages outstanding that are held for investment | RCONJ477
RC-L | 1.a.(2) | Unused commitments for proprietary reverse mortgages outstanding that are held for investment. Note: Items 1.a.(1) and 1.a.(2) of Schedule RC-L will be combined into one data item | RCONJ478
RC-L | 16.a | Over-the-counter derivatives: Net current credit exposure (Column B) | RCFDG419
RC-L | 16.b.(1) | Over-the-counter derivatives: Fair value of collateral: Cash—U.S. dollar (Column B) | RCFDG424
RC-L | 16.b.(2) | Over-the-counter derivatives: Fair value of collateral: Cash—Other currencies (Column B) | RCFDG429
RC-L | 16.b.(3) | Over-the-counter derivatives: Fair value of collateral: U.S. Treasury securities (Column B) | RCFDG434
RC-L | 16.b.(4) | Over-the-counter derivatives: Fair value of collateral: U.S. Government agency and U.S. Government-sponsored agency debt securities (Column B) | RCFDG439
RC-L | 16.b.(5) | Over-the-counter derivatives: Fair value of collateral: Corporate bonds (Column B) | RCFDG444
RC-L | 16.b.(6) | Over-the-counter derivatives: Fair value of collateral: Equity securities (Column B) | RCFDG449
RC-L | 16.b.(7) | Over-the-counter derivatives: Fair value of collateral: All other collateral (Column B) | RCFDG454
RC-L | 16.b.(8) | Over-the-counter derivatives: Fair value of collateral: Total fair value of collateral (Column B). Note: Amounts reported in items 16.a, 16.b.(1), 16.b.(2), 16.b.(3), 16.b.(4), 16.b.(5), 16.b.(6), 16.b.(7), and 16.b.(8), Column B, will be included in items 16.a, 16.b.(1), 16.b.(2), 16.b.(3), 16.b.(4), 16.b.(5), 16.b.(6), 16.b.(7), and 16.b.(8), Column E | RCFDG459
RC-M | 2.b | Purchased credit card relationships and nonmortgage servicing assets. Note: Amounts reported in item 2.b will be included in item 2.c, All other identifiable intangible assets | RCFDB026
RC-M | 3.f | Foreclosed properties from “GNMA loans.” Note: Amounts reported in item 3.f will be included in item 3.c, Other real estate owned: 1-4 family residential properties | RCONC979

Other Impacts to Data Items
Schedule | Item | Item name | MDRM No.
RC | 10 (New) | Intangible assets. Note: Items 10.a and 10.b of Schedule RC will be combined into this data item | RCFD2143
RC-B | 2 (New) | U.S. Government agency obligations (exclude mortgage-backed securities (Columns A through D). Note: Items 2.a and 2.b of Schedule RC-B removed above will be combined into this data item (Columns A through D) | To be determined (TBD) (4 MDRMs)
RC-B | 5.b (New) | Structured financial products (Columns A through D). Note: Items 5.b.(1), 5.b.(2), and 5.b.(3) of Schedule RC-B removed above will be combined into this data item (Columns A through D) | TBD (4 MDRMs)
RC-D | 5.a (New) | Structured financial products. Note: Items 5.a.(1), 5.a.(2), and 5.a.(3) of Schedule RC-D, Column A, removed above will be combined into this data item | TBD
RC-D | 6.a.(1) (New) | Loans secured by 1-4 family residential properties. Note: Items 6.a.(3)(a), 6.a.(3)(b)(1), and 6.a.(3)(b)(2) of Schedule RC-D, Column B, removed above will be combined into this data item for the consolidated bank in Column A, which will partially replace item 6.a, Column A | TBD
RC-D | 6.a.(2) (New) | All other loans secured by real estate. Note: Items 6.a.(1), 6.a.(2), 6.a.(4), and 6.a.(5) of Schedule RC-D, Column B, removed above will be combined into this data item for the consolidated bank in Column A, which will partially replace item 6.a, Column A | TBD
RC-D | 6.c (New) | Loans to individuals for household, family and other personal expenditures (i.e., consumer loans) (includes purchased paper). Note: Items 6.c.(1), 6.c.(2), 6.c.(3), and 6.c.(4) of Schedule RC-D removed above will be combined into this data item | TBD
RC-D | M1.a.(1) (New) | Unpaid principal balance of loans measured at fair value: Loans secured by 1-4 family residential properties. Note: Items M1.a.(3)(a), M1.a.(3)(b)(1), and M1.a.(3)(b)(2) of Schedule RC-D, Column B, removed above will be combined into this data item for the consolidated bank in Column A, which will partially replace item M.1.a, Column A | TBD
RC-D | M1.a.(2) (New) | Unpaid principal balance of loans measured at fair value: All other loans secured by real estate. Note: Items M1.a.(1), M1.a.(2), M1.a.(4), and M1.a.(5) of Schedule RC-D, Column B, removed above will be combined into this data item for the consolidated bank in Column A, which will partially replace item M.1.a, Column A | TBD
RC-D | M1.c (New) | Unpaid principal balance of loans measured at fair value: Loans to individuals for household, family, and other personal expenditures (i.e., consumer loans) (includes purchased paper). Note: Items M1.c.(1), M1.c.(2), M1.c.(3), and M1.c.(4) of Schedule RC-D, Column A, removed above will be combined into this data item | TBD
RC-H | 19 (Re-mapping) | Total trading assets. Note: Schedule RC-D, item 12, Column B, will be moved to Schedule RC-H, item 19. The proposed threshold change applicable to Schedule RC-D applies to this item | RCON3545
RC-H | 20 (Re-mapping) | Total trading liabilities. Note: Schedule RC-D, item 15, Column B, will be moved to Schedule RC-H, item 20. The proposed threshold change applicable to Schedule RC-D applies to this item | RCON3548
RC-H | 21 (New) | Total loans held for trading. Note: The proposed threshold change applicable to Schedule RC-D applies to this item | TBD
RC-L | 1.a (New) | Unused commitments for reverse mortgages outstanding that are held for investment. Note: Items 1.a.(1) and 1.a.(2) of Schedule RC-L removed above will be combined into this data item | TBD
RC-M | 2.b (Re-mapping) | Goodwill. Note: Schedule RC, item 10.a will be moved to Schedule RC-M, new item 2.b., and the phrase “other than goodwill” will be removed from the caption for Schedule RC-M, item 2 | RCFD3163

Data Items With a Reduction in Frequency of Collection
Semiannual Reporting (June 30 and December 31)
Schedule | Item | Item name | MDRM No.
RI | M12 | Noncash income from negative amortization on closed-end loans secured by 1-4 family residential properties | RIADF228
RC-B | M3 | Amortized cost of held-to-maturity securities sold or transferred to available-for-sale or trading securities during the calendar year-to-date | RCFD1778
RC-C, Part I | M7.a | Purchased credit-impaired loans held for investment accounted for in accordance with FASB ASC 310-30: Outstanding balance | RCFDC779
RC-C, Part I | M7.b | Purchased credit-impaired loans held for investment accounted for in accordance with FASB ASC 310-30: Amount included in Schedule RC-C, Part I, items 1 through 9 | RCFDC780
RC-C, Part I | M8.a | Total amount of closed-end loans with negative amortization features secured by 1-4 family residential properties | RCONF230
RC-C, Part I | M8.b | Total maximum remaining amount of negative amortization contractually permitted on closed-end loans secured by 1-4 family residential properties | RCONF231
RC-C, Part I | M8.c | Total amount of negative amortization on closed-end loans secured by 1-4 family residential properties included in the amount reported in Memorandum item 8.a above | RCONF232
RC-C, Part I | M12.a | Loans (not subject to the requirements of FASB ASC 310-30 (former AICPA Statement of Position 03-3)) and leases held for investment that were acquired in business combinations with acquisition dates in the current calendar year: Loans secured by real estate (Columns A through C) | RCFDG091, RCFDG092, RCFDG093
RC-C, Part I | M12.b | Loans (not subject to the requirements of FASB ASC 310-30 (former AICPA Statement of Position 03-3)) and leases held for investment that were acquired in business combinations with acquisition dates in the current calendar year: Commercial and industrial loans (Columns A through C) | RCFDG094, RCFDG095, RCFDG096
RC-C, Part I | M12.c | Loans (not subject to the requirements of FASB ASC 310-30 (former AICPA Statement of Position 03-3)) and leases held for investment that were acquired in business combinations with acquisition dates in the current calendar year: Loans to individuals for household, family, and other personal expenditures (Columns A through C) | RCFDG097, RCFDG098, RCFDG099
RC-C, Part I | M12.d | Loans (not subject to the requirements of FASB ASC 310-30 (former AICPA Statement of Position 03-3)) and leases held for investment that were acquired in business combinations with acquisition dates in the current calendar year: All other loans and all leases (Columns A through C) | RCFDG100, RCFDG101, RCFDG102
RC-L | 1.b.(1) | Unused consumer credit card lines | RCFDJ455
RC-L | 1.b.(2) | Other unused credit card lines | RCFDJ456
RC-L | 11.a | Year-to-date merchant credit card sales volume: Sales for which the reporting bank is the acquiring bank | RCFDC223
RC-L | 11.b | Year-to-date merchant credit card sales volume: Sales for which the reporting bank is the agent bank with risk | RCFDC224
RC-N | M7 | Additions to nonaccrual assets during the quarter. Note: This caption would be revised to “Additions to nonaccrual assets during the last 6 months.” | RCFDC410
RC-N | M8 | Nonaccrual assets sold during the quarter. Note: This caption would be revised to “Nonaccrual assets sold during the last 6 months.” | RCFDC411
RC-N | M9.a | Purchased credit-impaired loans accounted for in accordance with FASB ASC 310-30 (former AICPA Statement of Position 03-3): Outstanding balance (Columns A through C) | RCFDL183, RCFDL184, RCFDL185
RC-N | M9.b | Purchased credit-impaired loans accounted for in accordance with FASB ASC 310-30 (former AICPA Statement of Position 03-3): Amount included in Schedule RC-N, items 1 through 7, above (Columns A through C) | RCFDL186, RCFDL187, RCFDL188

Annual Reporting (December)
Schedule | Item | Item name | MDRM No.
RC-M | 9 | Do any of the bank's Internet websites have transactional capability, i.e., allow the bank's customers to execute transactions on their accounts through the website? | RCFD4088
RC-M | 14.a | Total assets of captive insurance subsidiaries | RCFDK193
RC-M | 14.b | Total assets of captive reinsurance subsidiaries | RCFDK194

Data Items With an Increase in Reporting Threshold
[Schedule RI-D is to be completed by banks with foreign offices (including Edge or Agreement subsidiaries and IBFs) and $10 billion or more in total assets where foreign office revenues, assets, or net income exceed 10 percent of consolidated total revenues, total assets, or net income.]
[Schedule RC-D is to be completed by banks that reported total trading assets of $10 million or more in any of the four preceding calendar quarters and all banks meeting the FDIC's definition of a large or highly complex institution for deposit insurance assessment purposes.]
Schedule | Item | Item name | MDRM No.
To be completed by banks with $10 billion or more in total assets
RC-B | M5.a | Asset-backed securities: Credit card receivables (Columns A, B, C, and D) | RCFDB838, RCFDB839, RCFDB840, RCFDB841
RC-B | M5.b | Asset-backed securities: Home equity lines (Columns A, B, C, and D) | RCFDB842, RCFDB843, RCFDB844, RCFDB845
RC-B | M5.c | Asset-backed securities: Automobile loans (Columns A, B, C, and D) | RCFDB846, RCFDB847, RCFDB848, RCFDB849
RC-B | M5.d | Asset-backed securities: Other consumer loans (Columns A, B, C, and D) | RCFDB850, RCFDB851, RCFDB852, RCFDB853
RC-B | M5.e | Asset-backed securities: Commercial and industrial loans (Columns A, B, C, and D) | RCFDB854, RCFDB855, RCFDB856, RCFDB857
RC-B | M5.f | Asset-backed securities: Other (Columns A, B, C, and D) | RCFDB858, RCFDB859, RCFDB860, RCFDB861
RC-B | M6.a | Structured financial products by underlying collateral or reference assets: Trust preferred securities issued by financial institutions (Columns A through D) | RCFDG348, RCFDG349, RCFDG350, RCFDG351
RC-B | M6.b | Structured financial products by underlying collateral or reference assets: Trust preferred securities issued by real estate investment trusts (Columns A through D) | RCFDG352, RCFDG353, RCFDG354, RCFDG355
RC-B | M6.c | Structured financial products by underlying collateral or reference assets: Corporate and similar loans (Columns A through D) | RCFDG356, RCFDG357, RCFDG358, RCFDG359
RC-B | M6.d | Structured financial products by underlying collateral or reference assets: 1-4 family residential MBS issued or guaranteed by U.S. Government-sponsored enterprises (GSEs) (Columns A through D) | RCFDG360, RCFDG361, RCFDG362, RCFDG363
RC-B | M6.e | Structured financial products by underlying collateral or reference assets: 1-4 family residential MBS not issued or guaranteed by GSEs (Columns A through D) | RCFDG364, RCFDG365, RCFDG366, RCFDG367
RC-B | M6.f | Structured financial products by underlying collateral or reference assets: Diversified (mixed) pools of structured financial products (Columns A through D) | RCFDG368, RCFDG369, RCFDG370, RCFDG371
RC-B | M6.g | Structured financial products by underlying collateral or reference assets: Other collateral or reference assets (Columns A through D) | RCFDG372, RCFDG373, RCFDG374, RCFDG375
To be completed by banks with $10 billion or more in total trading assets
RC-D | M2.a | Loans measured at fair value that are past due 90 days or more: Fair value (Column A) | RCFDF639
RC-D | M2.b | Loans measured at fair value that are past due 90 days or more: Unpaid principal balance (Column A) | RCFDF640
RC-D | M3.a | Structured financial products by underlying collateral or reference assets: Trust preferred securities issued by financial institutions (Column A) | RCFDG299
RC-D | M3.b | Structured financial products by underlying collateral or reference assets: Trust preferred securities issued by real estate investment trusts (Column A) | RCFDG332
RC-D | M3.c | Structured financial products by underlying collateral or reference assets: Corporate and similar loans (Column A) | RCFDG333
RC-D | M3.d | Structured financial products by underlying collateral or reference assets: 1-4 family residential MBS issued or guaranteed by U.S. Government-sponsored enterprises (GSEs) (Column A) | RCFDG334
RC-D | M3.e | Structured financial products by underlying collateral or reference assets: 1-4 family residential MBS not issued or guaranteed by GSEs (Column A) | RCFDG335
RC-D | M3.f | Structured financial products by underlying collateral or reference assets: Diversified (mixed) pools of structured financial products (Column A) | RCFDG651
RC-D | M3.g | Structured financial products by underlying collateral or reference assets: Other collateral or reference assets (Column A) | RCFDG652
RC-D | M4.a | Pledged trading assets: Pledged securities (Column A) | RCFDG387
RC-D | M4.b | Pledged trading assets: Pledged loans (Column A) | RCFDG388
RC-D | M5.a | Asset-backed securities: Credit card receivables | RCFDF643
RC-D | M5.b | Asset-backed securities: Home equity lines | RCFDF644
RC-D | M5.c | Asset-backed securities: Automobile loans | RCFDF645
RC-D | M5.d | Asset-backed securities: Other consumer loans | RCFDF646
RC-D | M5.e | Asset-backed securities: Commercial and industrial loans | RCFDF647
RC-D | M5.f | Asset-backed securities: Other | RCFDF648
RC-D | M7.a | Equity securities: Readily determinable fair values | RCFDF652
RC-D | M7.b | Equity securities: Other | RCFDF653
RC-D | M8 | Loans pending securitization | RCFDF654
RC-D | M9 | Other trading assets | RCFDF655, RCFDF656, RCFDF657
RC-D | M10 | Other trading liabilities | RCFDF658, RCFDF659, RCFDF660
To be completed by banks with total trading assets of $10 million or more for any quarter of the preceding calendar year
RI | M8.a | Trading revenue: Interest rate exposures | RIAD8757
RI | M8.b | Trading revenue: Foreign exchange exposures | RIAD8758
RI | M8.c | Trading revenue: Equity security and index exposures | RIAD8759
RI | M8.d | Trading revenue: Commodity and other exposures | RIAD8760
RI | M8.e | Trading revenue: Credit exposures | RIADF186
To be completed by banks with components of other noninterest income in amounts greater than $100,000 that exceed 7 percent of Schedule RI, item 5.l
RI-E | 1.a through 1.l | Other noninterest income (from Schedule RI, item 5.l) | RIADC013, RIADC014, RIADC016, RIAD4042, RIADC015, RIADF555, RIADT047, RIAD4461, RIAD4462, RIAD4463
To be completed by banks with components of other noninterest expense in amounts greater than $100,000 that exceed 7 percent of Schedule RI, item 7.d
RI-E | 2.a through 2.p | Other noninterest expense (from Schedule RI, item 7.d) | RIADC017, RIAD0497, RIAD4136, RIADC018, RIAD8403, RIAD4141, RIAD4146, RIADF556, RIADF557, RIADF558, RIADF559, RIADY923, RIADY924, RIAD4464, RIAD4467, RIAD4468
To be completed by banks with total trading assets of $10 million or more in any of the four preceding calendar quarters and all banks meeting the FDIC's definition of a large or highly complex institution for deposit insurance assessment purposes.
RC-K | 7 | Trading assets | RCFD3401

Dated: June 21, 2017.
Karen Solomon,
Deputy Chief Counsel, Office of the Comptroller of the Currency.
Board of Governors of the Federal Reserve System, June 21, 2017.
Ann E. Misback,
Secretary of the Board.
Dated at Washington, DC, this 21st day of June, 2017.
Federal Deposit Insurance Corporation.
Robert E. Feldman,
Executive Secretary.

[FR Doc. 2017-13442 Filed 6-26-17; 8:45 am]

BILLING CODE 4810-33-P 6210-01-P 6714-01-P